FEDERAL COMMUNICATIONS COMMISSION

Privacy Act Systems of Records

AGENCY: Federal Communications Commission (FCC).

ACTION: Notice; update of the FCC's Privacy Act systems of records.

SUMMARY: Pursuant to the provisions of the Privacy Act of 1974, as amended, 5 U.S.C. 552a(e)(4) and OMB Circular A-130, the FCC has conducted required reviews of its systems of records and is publishing this notice regarding its proposal to introduce ten new systems of records, delete four old systems of records, and revise twenty-four systems of records.

DATES: Any interested person may submit written comments concerning the systems of records on or before May 5, 2006. The Office of Management and Budget (OMB), which has oversight responsibility under the Privacy Act to review the systems of records, may submit comments on or before May 15, 2006. The proposed systems of records will be effective on May 15, 2006 unless the FCC receives comments that require a contrary determination. The Commission will publish a document in the Federal Register notifying the public if any changes are necessary.

ADDRESSES: Address comments to Les Smith, Office of Managing Director, Room 1-A804, Federal Communications Commission, 445 12th Street, SW., Washington, DC 20554, or via the Internet at Leslie.Smith@fcc.gov. Comments can also be sent to the Kristy LaLonde, Policy Analyst, Office of Information and Regulatory Affairs, Office of Management and Budget, New Executive Office Building, 725 17th Street, NW., Washington, DC 20503, or via the Internet at Kristy_L._LaLonde@omb.eop.gov.

FOR FURTHER INFORMATION CONTACT: Les Smith, Office of Managing Director, Room 1-A804, Federal Communications Commission (FCC), 445 12th Street, SW., Washington, DC 20554, (202) 418-0217, or via the Internet at Leslie.Smith@fcc.gov.

SUPPLEMENTARY INFORMATION: In accordance with the Privacy Act of 1974, the FCC has conducted a review of its Privacy Act systems of records and has determined that it needs to introduce ten new systems of records, to delete four systems of records that are out-of-date, and to revise 24 systems of records. The Commission previously published one or more of the FCC's systems of records at various times. These publications may be viewed at the FCC's Privacy Act Web page: http://www.fcc.gov/omd/privacyact/records-systems.html. With this notice, the Commission is publishing the complete text of all of its systems notices but two to provide a current, easily accessible compilation. Information about the reasons for these proposed changes is noted below:

NEW—ten new systems of records are proposed to cover information that the FCC has begun to collect and maintain since the FCC last published its inventory of systems of records. The proposed new systems of records are:

FCC/CGB-2: Comment Filing System;

FCC/EB-3: Investigations and Hearings;

FCC/EB-4: Crisis Management Contacts;

FCC/OCBO-1: Small Business Contacts List;

FCC/OET-2: Equipment Authorization Records and Files;

FCC/OMD-11: Continuity of Operations Plan (COOP);

FCC/OMD-12: Integrated Library System (ILS) Records;

FCC/OMD-13: Data Quality Comments;

FCC/OMD-22: Equipment Loan Records; and

FCC/OWD-1: Reasonable Accommodation Requests.

REVISED—the other twenty-four systems of records are in need of revision. There are five types of revisions: (1) Generalized edits to make all of the FCC's systems of records easier to read and understand through consistent style, formatting, and manner of presentation; (2) improved compliance with 5 U.S.C. 552a(e)(1) by listing only statutes and Executive Orders in the “Authorities” section of each system of records; (3) renumbered and/or renamed systems of records to enhance consistency and ease of understanding; (4) elaboration of the FCC's routine uses by including even occasional routine uses; and (5) additions or deletions to the substantive core of the system of records.

In terms of which of these revision types apply:

(a) All 24 systems of records (FCC/EB-1; FCC/OET-1; FCC/OGC-3, 5, and 6; FCC/OIG-1 and 2; FCC/OMD-2, 3, 6, 7, 9, and 14 through 21; and FCC/WTB-1, 5, 6, and 7) were impacted by the general editorial and consistency revisions described by revision types 1 and 2 above;

(b) Thirteen of the 24 systems of records were renumbered or renamed (type 3 revisions). Eight of 12 were renumbered (FCC/OMD-14 through 21) due to the elimination of the FCC/Central numbering scheme. Five systems of records (FCC/OGC-3 and 5; FCC/OMD-2 and 6; and FCC/WTB-6) were renamed to bring greater clarity to the content of the system of records;

(c) Sixteen of the 24 systems of records were revised to include additional occasional routine uses. The systems of records that underwent this type 4 revision were FCC/EB-1; FCC/OET-1; FCC/OGC-3, 5, and 6; FCC/OIG-1 and 2; FCC/OMD-2, 3, 6, 7, 9, 15, 17, 19, and 21; and FCC/WTB-1;

(d) Eleven of the 24 systems of records received substantive, core changes to either provide information missing in previous versions of the system of records (FCC/EB-1 and FCC/OMD-3), revise the list of places at which the information is maintained (FCC/OMD-3 and 7), revise the types of information covered by the system of records (FCC/OMD-6 and 20), or to revise the purposes of the system of records (FCC/OMD-7, 9, 15, 17, and 18).

DELETED—four systems of records are proposed for deletion for the following reasons:

FCC/Central-5: Drug-Free Federal Workplace Program (duplicates OPM/GOVT-10);

FCC/EB-2: State and Operational Areas Emergency Commissions Committee Membership (duplicative of FCC/OMD-3);

FCC/OGC-2: Attorney Misconduct Files (no longer maintained); and

FCC/OMD-8: Revenue Accounting Management Information System (“RAMIS”) (information from this system of records was combined with the revised FCC/OMD-6).

The FCC has created a set of standardized routine uses that updates and eliminates the variations in language that had characterized the routine uses that were used previously in the systems of records. These routines uses are as follows:

• Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

• Committee communication and reporting—a record in this system may be used to distribute information to members of each committee for purposes of conducting meetings and general committee business or to prepare reports on the membership and work of the committee;

• Compliance with Welfare Reform requirements—Names, Social Security Numbers, home addresses, dates of birth, dates of hire, quarterly earnings, employer identifying information, and state of hire of employees may be disclosed to the Office of Child Support Enforcement, Administration for Children and Families, Department of Health and Human Services for the purposes of locating individuals to establish paternity, establishing and modifying orders of child support, identifying sources of income, and for other child support enforcement actions as required by the Personal Responsibility and Work Opportunity Reconciliation Act;

• Congressional Inquiries—when requested by a Congressional office in response to an inquiry by an individual made to the Congressional office for their own records;

• Emergency response—A record on an individual in this system of records may be disclosed to emergency medical personnel, e.g., doctors, nurses, and/or paramedics, or to law enforcement officials in case of a medical or other emergency involving the FCC employee without the subsequent notification to the individual identified in 5 U.S.C. 552a (b)(8);

• Employment, Clearances, Licensing, Contract, Grant, or other Benefits Decisions by the agency—disclosure may be made to a Federal, State, local, or foreign agency maintaining civil, criminal, or other relevant enforcement records, or other pertinent records, or to another public authority or professional organization, if necessary to obtain information relevant to an investigation concerning the retention of an employee or other personnel action (other than hiring), the retention of a security clearance, the letting of a contract, or the issuance or retention of a grant or other benefit;

• Employment, Clearances, Licensing, Contract, Grant, or other Benefits Decisions by other than the agency—disclosure may be made to a Federal, State, local, foreign, tribal, or other public authority of the fact that this system of records contains information relevant to the retention of an employee, the retention of a security clearance, the letting of a contract, or the issuance or retention of a license, grant, or other benefit. The other agency or licensing organization may then make a request supported by the written consent of the individual for the entire records if it so chooses. No disclosure will be made unless the information has been determined to be sufficiently reliable to support a referral to another office within the agency or to another Federal agency for criminal, civil, administrative, personnel or regulatory action;

• Enforcement—when a record in this system involves an informal complaint filed against telecommunications providers, the complaint may be forwarded to the defendant provider for a response, pursuant to Section 208 of the Communications Act of 1934, as amended and other applicable rules. When an order or other Commission-issued document that includes consideration of informal complaints filed against telecommunications providers is entered by the FCC to implement or to enforce the Communications Act, pertinent rule, regulation, or order of the FCC, the complainant's name may be made public in that order or document. Where a complainant in filing his or her complaint explicitly requests that the FCC withhold his or her name from public disclosure, such a request will be granted and the complainant's name will not be disclosed in the Commission-issued order or document.

• Financial obligations under the Debt Collection Acts—a record from this system may be disclosed to other Federal agencies for the purpose of collecting and reporting on delinquent debts as authorized by the Debt Collection Act of 1982 or the Debt Collection Improvement Act of 1996. A record from this system may be disclosed to any Federal, state, or local agency to conduct an authorized computer matching program in compliance with the Privacy Act of 1974, as amended, to identify and locate individuals who are delinquent in their repayment of certain debts owed to the U.S. Government. A record from this system may be used to prepare information on items considered income for taxation purposes to be disclosed to Federal, state, and local governments;

• Financial Obligations as required by the National Finance Center et al.—when the National Finance Center (the FCC's designated payroll office), the Department of the Treasury Debt Management Services, and/or a current employer to effect a salary, IRS tax refund, or administrative offset to satisfy an indebtedness; and to Federal agencies to identify and locate former employees for the purposes of collecting such indebtedness, including through administrative, salary, or tax refund offsets. Identifying and locating former employees, and the subsequent referral to such agencies for offset purposes, may be accomplished through authorized computer matching programs. Disclosures will be made only when all procedural steps established by the Debt Collection Act of 1982 and the Debt Collection Improvement Act of 1996 or the Computer Matching and Privacy Protection Act of 1988 as appropriate, have been taken;

• First Responders—a record from this system of records may be disclosed to law enforcement officials, Department of Homeland Security (DHS), Federal Emergency Management Agency (FEMA), Department of Defense (DOD), National Telecommunications and Information Administration (NTIA), White House Communications Agency, other federal agencies, and state and local emergency response officials, e.g., fire, safety, and rescue personnel, etc., and medical personnel, e.g., doctors, nurses, and paramedics, etc., in case of an emergency situation at FCC facilities without the subsequent notification to the individual identified in 5 U.S.C. 552a(b)(8);

• Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

• Labor Relations—A record from this system may be disclosed to officials of labor organizations recognized under 5 U.S.C. Chapter 71 upon receipt of a formal request and in accord with the conditions of 5 U.S.C. 7114 when relevant and necessary to their duties of exclusive representation concerning personnel policies, practices, and matters affecting working conditions.

• Law enforcement and Investigation—where there is an indication of a violation or potential violation of a statute, regulation, rule, or order, records from this system may be shared with appropriate Federal, State, or local authorities either for purposes of obtaining additional information relevant to a FCC decision or for referring the record for investigation, enforcement, or prosecution by another agency;

• Program partner—when information is disclosed to the Washington Metropolitan Area Transit Authority (WMATA) in connection employees participating in their SmarTrip program (http://www.wmata.com/riding/smartrip.cfm); and The FCC is unable to craft standardized language for the Public Access routine uses, which are employed in several systems of records. This is because the diversity of circumstances for Public Access disclosures in CGB-2, EB-1, OET-1, OET-2, OGC-5, OGC-6, OMD-3, OMD-6, OMD-9, OMD-13, OMD-17, OMD-19, WTB-1, WTB-6, and WTB-7, vary too greatly.

More detailed information on the proposed new and revised systems of records may be viewed in the complete text below.

The FCC also notes that it will provide two further updates to its systems of records in the future. First, prior to the full implementation of Homeland Security Presidential Directive-12 (HSPD-12) in October 2006, the Commission will publish the revised and renamed FCC/Central-10, Access Control System, to address the changes related to the implementation of HSPD-12 requirements to carry out the plan for a government-wide set of identification and badging protocols for all Federal employees, contractors, and visitors. Second, the Commission will publish a revised and renamed FCC/CIB-1, Informal Complaints and Inquiries, when the upgrades to this system of records are completed.

Federal Communications Commission.
Marlene H. Dortch,
Secretary.

FCC/CGB-2

SYSTEM NAME:

Comment Filing System (ECFS).

SECURITY CLASSIFICATION:

None.

SYSTEM LOCATION:

Chief, Consumer and Governmental Affairs Bureau, Room 5-C758, Federal Communications Commission, 445 12th Street, SW., Washington, DC 20554 and 1270 Fairfield Road, Gettysburg, PA 17325.

CATEGORIES OF INDIVIDUALS COVERED BY THE SYSTEM:

Individuals who have filed comments relative to Federal Communications Commission (FCC) rulemakings and docketed proceedings or other matters arising under the Communications Act of 1934, as amended, and the Rehabilitation Act.

CATEGORIES OF RECORDS IN THE SYSTEM:

1. Comments received by the FCC, whether electronically through the Electronic Comment Filing System (ECFS), via the Internet, e-mail, mailed, or delivered by paper copy. This includes information provided via FCC Forms 475 and 501.

2. The system also contains files and records submitted in response to Commission rulemakings and docketed proceedings, and by the FCC's administrative law staff as the repository for official records arising out of the conduct of administrative proceedings.

AUTHORITY FOR MAINTENANCE OF THE SYSTEM:

44 U.S.C. Chapter 36; 47 U.S.C. 151 and 154; and Sections 504 and 508 of the Rehabilitation Act, 29 U.S.C. 794 et al.

PURPOSE(S):

In order to comply with the requirements of various statutes and regulations, the FCC offers multiple avenues through which the public can be involved in its decision-making process and can inform the FCC of concerns regarding compliance with FCC rules and requirements. Collecting and maintaining these types of information allows the FCC to be fully informed in decision-making, implementation, and enforcement endeavors. Such a system also allows staff access to documents and improves staff efficiency. Records in this system are available for public inspection.

ROUTINE USES OF RECORDS MAINTAINED IN THE SYSTEM, INCLUDING CATEGORIES OF USERS AND THE PURPOSES OF SUCH USES:

Additionally, information about individuals in this system of records may routinely be disclosed under the following conditions:

1. Public Access—under the rules of the Commission, public comments on rulemakings are routinely available to the public—unless confidentiality is requested (47 CFR 0.459)—via either the Commission's electronic comment filing system (ECFS) at http://www.fcc.gov/cgb/ecfs/ or the public Reference Information Center (RIC) at http://www.fcc.gov/cgb/ric.html;

2. Enforcement—when a record in this system involves an informal complaint filed against telecommunications providers, the complaint may be forwarded to the defendant provider for a response, pursuant to Section 208 of the Communications Act of 1934, as amended, and other applicable rules. When an order or other Commission-issued document that includes consideration of informal complaints filed against telecommunications providers is entered by the FCC to implement or to enforce the Communications Act, pertinent rule, regulation, or order of the FCC, the complainant's name may be made public in that order or document. Where a complainant in filing his or her complaint explicitly requests that the FCC withhold his or her name from public disclosure, such a request will be granted and the complainant's name will not be disclosed in the Commission-issued order or document;

3. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

4. Law enforcement and Investigation—where there is an indication of a violation or potential violation of a statute, regulation, rule, or order, records from this system may be shared with appropriate Federal, State, or local authorities either for purposes of obtaining additional information relevant to an FCC decision or for referring the record for investigation, enforcement, or prosecution by another agency;

5. Congressional Inquiries—when requested by a Congressional office in response to an inquiry by an individual made to the Congressional office for their own records; and

6. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Paper copies of records in this system of records are maintained in file folders. The electronic files are located in computer databases on the FCC internal network.

RETRIEVABILITY:

Records are retrieved by individual name, entity name, rulemaking number, and/or docket number.

SAFEGUARDS:

Records are available over the Internet 24 hours a day, seven days a week. Paper copies representing one third of the records are maintained in the Reference Information Center (RIC). Back-up of the data in ECFS is the responsibility of the FCC's Information Technology Center of the Office of Managing Director and is performed nightly.

RETENTION AND DISPOSAL:

The retention schedule for this system of records has not yet been determined. No records will be destroyed until a disposal schedule is approved by the National Archives and Records Administration (NARA).

SYSTEM MANAGER(S) AND ADDRESS:

Chief, Reference Information Center, Consumer and Governmental Affairs Bureau (CGB), Federal Communications Commission (FCC), 445 12th Street, Room CY-B533, SW., Washington, DC 20554.

NOTIFICATION PROCEDURE:

Address inquiries to the system manager.

RECORD ACCESS PROCEDURES:

Address inquiries to the system manager.

CONTESTING RECORD PROCEDURES:

Address inquiries to the system manager.

RECORD SOURCE CATEGORIES:

Commenters and subject entities.

EXEMPTIONS CLAIMED FOR THE SYSTEM:

None.

FCC/EB-1

SYSTEM NAME:

Violators File.

SECURITY CLASSIFICATION:

None.

SYSTEM LOCATION:

Primary: Enforcement Bureau (EB), Room 7-C732, Federal Communications Commission (EB), 445 12th Street, SW., Washington, DC 20554.

Secondary: Various field facilities. See Federal Communication Commission (FCC) telephone directory for field office phone numbers. The directory can be found at http://www.fcc.gov/fcc-bin/findpeople.pl., or locate local FCC offices in commercial telephone directory under “U.S. Government.” Information about FCC Field Offices can also be found in 47 CFR 0.121 and 0.401. Field office mailing addresses can also be found at http://www.fcc.gov/eb/ddadd.html.

CATEGORIES OF INDIVIDUALS COVERED BY THE SYSTEM:

1. Individuals who have been subjects of Federal Communications Commission (FCC) field enforcement actions (monitoring, inspection, and/or investigation) for violations of radio law, FCC Rules and Regulations, or International Treaties; and

2. Licensees, applicants, and unlicensed persons under parts 80, 87, 90, 94, 95, and 97 of the FCC rules about whom there are questions of compliance with the Commission's rules or the Communications Act of 1934, as amended.

CATEGORIES OF RECORDS IN THE SYSTEM:

Inspection reports, complaints, monitoring reports, investigative cases, referral memos, correspondence, discrepancy notifications, warning notices, and forfeiture actions.

AUTHORITY FOR MAINTENANCE OF THE SYSTEM:

47 U.S.C. 101, 102, 104, 301, 303, 309(e), 312, 315, 318, 362, 364, 386, 501, 502, 503, 507, and 510.

PURPOSE(S):

Records from this system are for:

1. Use in connection with the Commission's field enforcement programs to determine levels of compliance among radio users; to issue marine certificates of compliance; to document Commission monitoring inspections and investigations for enforcement purposes; to provide a basis for various administrative, civil, or criminal sanction actions taken against violators by the EB or other appropriate Commission bureaus or offices; and

2. A cross-reference, which prevents duplication of enforcement actions, and tracking the progress of enforcement cases.

ROUTINE USES OF RECORDS MAINTAINED IN THE SYSTEM, INCLUDING CATEGORIES OF USERS AND THE PURPOSES OF SUCH USES:

Information about individuals in this system of records may routinely be disclosed under the following conditions:

1. Public access—copies of FCC enforcement actions are available for public inspection via the Internet at http://www.fcc.gov/eb/, and in the FCC's Reference Information Center at http://www.fcc.gov/cgb/ric.html;

2. Employment, Clearances, Licensing, Contract, Grant, or other Benefits Decisions by the agency—disclosure may be made to a Federal, State, local, or foreign agency maintaining civil, criminal, or other relevant enforcement records, other pertinent records, or to another public authority or professional organization, if necessary to obtain information relevant to an investigation concerning the retention of an employee or other personnel action (other than hiring), the retention of a security clearance, the letting of a contract, or the issuance or retention of a grant or other benefit;

3. Employment, Clearances, Licensing, Contract, Grant, or other Benefits Decisions by other than the agency—disclosure may be made to a Federal, State, local, foreign, tribal, or other public authority of the fact that this system of records contains information relevant to the retention of an employee, the retention of a security clearance, the letting of a contract, or the issuance or retention of a license, grant, or other benefit. The other agency or licensing organization may then make a request supported by the written consent of the individual for the entire records if it so chooses. No disclosure will be made unless the information has been determined to be sufficiently reliable to support a referral to another office within the agency or to another Federal agency for criminal, civil, administrative, personnel, or regulatory action;

4. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

5. Law enforcement and investigation—where there is an indication of a violation or potential violation of a statute, regulation, rule, or order, records from this system may be shared with appropriate Federal, State, or local authorities either for purposes of obtaining additional information relevant to a FCC decision or for referring the record for investigation, enforcement, or prosecution by another agency;

6. Congressional inquiries—when requested by a Congressional office in response to an inquiry by an individual made to the Congressional office for their own records; and

7. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Records in this system of records include both paper and electronic records.

RETRIEVABILITY:

Records are retrieved primarily by case number. Under that hierarchy an individual's name, address, and other identifying information can be located.

SAFEGUARDS:

Paper records are maintained in file folders and stored in a secure area. Access to files is limited to approved personnel. The electronic records are maintained in computer databases, which are secured through controlled access and passwords. The databases are backed-up routinely.

RETENTION AND DISPOSAL:

The retention schedule for this system of records has not yet been determined. No records will be destroyed until a disposal schedule is approved by the National Archives and Records Administration (NARA).

SYSTEM MANAGER(S) AND ADDRESS:

Office of Management and Resources, Enforcement Bureau (EB), 7-C732, Federal Communications Commission (FCC), 445 12th Street, SW., Washington, DC 20554.

NOTIFICATION PROCEDURE:

Under the authority granted to heads of agencies by 5 U.S.C. 552a(k), the FCC has determined (47 CFR 0.561) that this system of records is exempt from disclosing its notification procedure for this system of records.

RECORD ACCESS PROCEDURES:

Under the authority granted to heads of agencies by 5 U.S.C. 552a(k), the FCC has determined (47 CFR 0.561) that this system of records is exempt from disclosing its record access procedure for this system of records.

CONTESTING RECORD PROCEDURE:

Under the authority granted to heads of agencies by 5 U.S.C. 552a(k), the FCC has determined (47 CFR 0.561) that this system of records is exempt from disclosing its contesting record procedure for this system of records.

RECORD SOURCE CATEGORIES:

Under the authority granted to heads of agencies by 5 U.S.C. 552a(k), the FCC has determined (47 CFR 0.561) that this system of records is exempt from disclosing its record sources for this system of records.

EXEMPTION FROM CERTAIN PROVISIONS OF THE ACT:

This system of records is exempt from sections (c)(3), (d), (e)(4)(G), (H), and (I), and (f) of the Privacy Act of 1974, 5 U.S.C. 552a, and from 47 CFR 0.554—0.557 of the Commission's rules. These provisions concern the notification, record access, and contesting procedures described above, and also the publication of record sources. The system is exempt from these provisions because it contains the following types of information:

1. Investigative material compiled for law enforcement purposes as defined in Section (k)(2) of the Privacy Act;

2. Properly classified information, obtained from another Federal agency during the course of a personnel investigation, which pertains to national defense and foreign policy, as stated in Section (k)(1) of the Privacy Act; and

3. Investigative material compiled solely for the purpose of determining suitability, eligibility, or qualifications for Federal civilian employment, as described in Section (k)(5) of the Privacy Act, as amended.

FCC/EB-3

SYSTEM NAME:

Investigations and Hearings.

SECURITY CLASSIFICATION:

None.

SYSTEM LOCATION:

Investigations and Hearings Division, Enforcement Bureau (EB), Federal Communications Commission (FCC), 4th Floor, 445 12th Street, SW., Washington, DC 20554.

CATEGORIES OF INDIVIDUALS COVERED BY THE SYSTEM:

Individuals who have filed complaints against Federal Communications Commission (FCC) licensees and regulatees.

CATEGORIES OF RECORDS IN THE SYSTEM:

1. Records are kept in an electronic database associated with this system of records containing only the complainants' names.

2. Paper copies of complaints filed with and maintained by the FCC, may contain information provided by complainants (e.g., complainants' names, addresses, and telephone numbers). Forms that may be included in this system of records include FCC Forms 475, 475B, 485, and 501.

AUTHORITY FOR MAINTENANCE OF THE SYSTEM:

47 U.S.C. 101, 102, 104, 301, 303, 309(e), 312, 315, 318, 362, 364, 386, 501, 502, 503, 507, and 510.

PURPOSE(S):

The information in the electronic database is used for tracking the status of enforcement cases. The information in the paper files is stored for reference in enforcement actions.

ROUTINE USES OF RECORDS MAINTAINED IN THE SYSTEM, INCLUDING CATEGORIES OF USERS AND THE PURPOSES OF SUCH USES:

Information about individuals in this system of records may routinely be disclosed under the following conditions:

1. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

2. Law enforcement and investigation—where there is an indication of a violation or potential violation of a statute, regulation, rule, or order, records from this system may be shared with appropriate Federal, State, or local authorities either for purposes of obtaining additional information relevant to a FCC decision or for referring the record for investigation, enforcement, or prosecution by another agency;

3. Congressional inquiries—when requested by a Congressional office in response to an inquiry by an individual made to the Congressional office for their own records; and

4. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Information is maintained in the electronic database and in paper files.

RETRIEVABILITY:

Information in the electronic database information can be retrieved by the complainant's name. Information in the central files can be retrieved by a unique case number assigned to each case.

SAFEGUARDS:

Paper records are maintained in file cabinets that are secured at the end of each business day. The file cabinets are located in non-public areas. Access to information in the computer database is restricted by use of passwords via terminals that are located in rooms in non-public areas. The rooms are secured outside of business hours. Data resident on network servers are routinely backed-up onto magnetic media. Backup tapes are stored on-site in fireproof safes and at a secure off-site storage location.

RETENTION AND DISPOSAL:

The retention schedule for this system of records has not yet been determined. No records will be destroyed until a disposal schedule is approved by the National Archives and Records Administration (NARA).

SYSTEM MANAGER(S) AND ADDRESS:

Chief, Enforcement Bureau (EB), Federal Communications Commission (FCC), 445 12th Street, SW., Washington, DC 20554.

NOTIFICATION PROCEDURE:

Address inquiries to the system manager.

RECORD SOURCE PROCEDURES:

Address inquiries to the system manager.

CONTESTING RECORD PROCEDURE:

Address inquiries to the system manager.

RECORD SOURCE CATEGORIES:

Complainant and subject entities.

EXEMPTIONS CLAIMS FOR THE SYSTEM:

None.

FCC/EB-4

SYSTEM NAME:

Crisis Management Contacts.

SECURITY CLASSIFICATION:

Unclassified (Non-Public, For Internal Use Only).

SYSTEM LOCATION:

Enforcement Bureau (EB), Federal Communications Commission (FCC), 445 12th Street, SW., Room 7-C732, Washington, DC 20554.

CATEGORIES OF INDIVIDUALS COVERED BY THE SYSTEM:

Information includes FCC Employees, Federal Government points of contact, State and Local Government points of contact, and Communications Industry points of contact.

CATEGORIES OF RECORDS IN THE SYSTEM:

Information includes FCC Employees, Federal Government points of contact, State and Local Government points of contact, and Communications Industry points of contact name(s), position title, business telephone number, business cellphone number(s), business pagers, and business address(es), and E-mail address(es), home telephone number, personal cellphone number(s), pagers, and home E-mail address(es) that are used by FCC crisis incident managers.

AUTHORITY FOR MAINTENANCE OF THE SYSTEM:

Executive Order (EO) 12472, Assignment of National Security and Emergency Preparedness Telecommunications Functions, April 3, 1984; EO 12656, Assignment of Emergency Preparedness Responsibilities, November 18, 1988; Federal Preparedness Circular (FPC) 65, Federal Executive Branch Continuity of Operations, June 15, 2004; FPC 66, Test, Training, and Exercise (TT&E) Program and COOP, April 30, 2001; FPC 67, Acquisition for Alternate Facilities for COOP, April 30, 2001 National Security Presidential Decision Directive (NSPD) 1, Organization of the National Security Council System, February 13, 2001; Presidential Decision Directive (PDD) 67, Enduring Constitutional Government and Continuity of Government Operations, October 21, 1998; and Homeland Security Presidential Directive (PD) 3, March 11, 2002.

PURPOSE(S):

This information allows FCC crisis incident managers to coordinate crisis response activities related to the telecommunications industry and the functions of the FCC.

ROUTINE USES OF RECORDS MAINTAINED IN THE SYSTEM:

Including information about individuals in this system of records may routinely be disclosed under the following conditions:

1. First Responders—a record from this system of records may be disclosed to law enforcement officials, Department of Homeland Security (DHS), Federal Emergency Management Agency (FEMA), Department of Defense (DOD), National Telecommunications and Information Administration (NTIA), White House Communications Agency, other Federal agencies, and state and local emergency response officials, e.g., fire, safety, and rescue personnel, etc., and medical personnel, e.g., doctors, nurses, and paramedics, etc., in case of an emergency situation at FCC facilities without the subsequent notification to the individual identified in 5 U.S.C. 552a(b)(8);

2. Law enforcement and investigation—where there is an indication of a violation or potential violation of a statute, regulation, rule, or order, records from this system may be shared with appropriate Federal, State, or local authorities either for purposes of obtaining additional information relevant to a FCC decision or for referring the record for investigation, enforcement, or prosecution by another agency;

3. Congressional inquiries—when requested by a Congressional office in response to an inquiry by an individual made to the Congressional office for their own records; and

4. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Electronic records are maintained in a network computer database.

RETRIEVABILITY:

Records are retrieved by the individual's name and/or organization.

SAFEGUARDS:

Electronic records are maintained in a network computer database, which is secured through controlled access and password restricted to a limited number of authorized FCC staff.

RETENTION AND DISPOSAL:

Records kept by the FCC are maintained and disposed of in accordance with records schedules issued by the National Archives and Records Administration (NARA). Individuals may request a copy of the disposition instructions from the FCC Privacy Act Officer.

SYSTEM MANAGER(S) AND ADDRESS:

Chief, Enforcement Bureau (EB), Federal Communications Commission (FCC), 445 12th Street, SW., Room 7-C732, Washington, DC 20554.

NOTIFICATION PROCEDURE:

Address inquiries to the system manager.

RECORD ACCESS PROCEDURE:

Address inquiries to the system manager.

CONTESTING RECORD PROCEDURES:

Address inquiries to the system manager.

RECORD SOURCE CATEGORIES:

Address inquiries to the system manager.

EXEMPTIONS CLAIMED FOR THE SYSTEM:

None.

FCC/OCBO-1

SYSTEM NAME:

Small Business Contacts Database.

SECURITY CLASSIFICATION:

None.

SYSTEM LOCATION:

Director, Office of Communications Business Opportunities (OCBO), Federal Communications Commission (FCC), 445 12th Street, SW., Room 4-A760 Washington, DC 20554.

CATEGORIES OF INDIVIDUALS COVERED BY THE SYSTEM:

Information includes small, minority, and women-owned communications' business owners and employees, as well as other individuals who work or communicate with this segment of the population.

CATEGORIES OF RECORDS IN THE SYSTEM:

Contact information, where available, such as the individual's name, phone number(s), and address(es).

AUTHORITY FOR MAINTENANCE OF THE SYSTEM:

Sections 151, 152, 155, 257, 303 of the Communications Act of 1934, as amended, 47 U.S.C. 151, 152, 155, 257; and 5 U.S.C. 602(c) and 609(a)(3).

PURPOSE(S):

This system of records serves as a repository of contact information that FCC employees use to further the FCC's outreach mission to small, women, and minority-owned businesses.

ROUTINE USES OF RECORDS MAINTAINED IN THE SYSTEM, INCLUDING CATEGORIES OF USERS AND THE PURPOSES OF SUCH USES:

Information about individuals in this system of records may routinely be disclosed under the following conditions:

1. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

2. Law enforcement and Investigation—where there is an indication of a violation or potential violation of a statute, regulation, rule, or order, records from this system may be shared with appropriate Federal, State, or local authorities either for purposes of obtaining additional information relevant to a FCC decision or for referring the record for investigation, enforcement, or prosecution by another agency;

3. Congressional Inquiries—when requested by a Congressional office in response to an inquiry by an individual made to the Congressional office for their own records; and

4. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

This is an electronic system of records that resides on the FCC's internal storage servers, which are backed-up daily.

RETRIEVABILITY:

Records in this system of records can be retrieved by any category field, e.g., first name or zip code.

SAFEGUARDS:

This system of records, which resides on the FCC's internal storage servers, is protected by the FCC's firewall and appropriate-level security protocols that prevent access to the system of records to all but those needing access to the same.

RETENTION AND DISPOSAL:

The retention schedule for this system of records has not yet been determined. No records will be destroyed until a disposal schedule is approved by the National Archives and Records Administration (NARA).

SYSTEM MANAGER(S) AND ADDRESS:

Allan K. Manuel, Chief of Staff, Office of Communications Business Opportunities (OCBO), Federal Communications Commission (FCC), 445 12th Street, SW., Room 4-A665, Washington, DC 20554.

NOTIFICATION PROCEDURE:

Address inquiries to system manager.

RECORD ACCESS PROCEDURES:

Address inquiries to system manager.

CONTESTING RECORD PROCEDURES:

Address inquiries to system manager.

RECORD SOURCE CATEGORIES:

Information provided to the FCC by individuals and gathered during the course of outreach activities.

EXEMPTIONS CLAIMED FOR THE SYSTEM:

None.

FCC/OET-1

SYSTEM NAME:

Experimental Radio Station License Files.

SECURITY CLASSIFICATION:

There is no specific security classification for this system; however, data or records within the system may have national defense/foreign policy classifications up through secret.

SYSTEM LOCATION:

Office of Engineering and Technology (OET), Federal Communications Commission, 445 12th Street, SW., Room 7-A303, Washington, DC 20554.

CATEGORIES OF INDIVIDUALS COVERED BY THE SYSTEM:

Those who have been granted a license to operate an experimental radio station under Part 5 of the Federal Communications Commission's (FCC) rules.

CATEGORIES OF RECORDS IN THE SYSTEM:

1. This system includes the following FCC Forms, any supporting exhibits submitted by the applicant(s), and related documentation:

(a) FCC Form 442, Application for a New or Modified Station;

(b) FCC Form 405, Application for Renewal of Station License;

(c) FCC Form 702, Application for Consent to Assignment of Radio Station Construction Authorization or License;

(d) FCC Form 703, Application for Consent to Transfer Control of Corporation Holding Station License; and

(e) Any supporting exhibits submitted by the applicant(s).

2. This system of records may include experimental project reports submitted by the applicant as required by FCC rules, part 5.

3. The system also includes comments from other Commission bureaus on interference potential of operation.

AUTHORITY FOR MAINTENANCE OF THE SYSTEM:

47 U.S.C. 308.

PURPOSE(S):

FCC employees use these records to determine:

1. An applicant's eligibility to operate a station in the experimental radio service;

2. Interference potential to other radio services within the Commission; and

3. If the project or experimentation is valid, as well as the possible use in rulemakings.

ROUTINE USES OF RECORDS MAINTAINED IN THE SYSTEM, INCLUDING CATEGORIES OF USERS AND THE PURPOSES OF SUCH USES:

Information about individuals in this system of records may routinely be disclosed under the following conditions:

1. Public Access—information from this system may be disclosed to other FCC bureaus, Federal agencies, or to the public, in response to a request, in connection with new experimentation being conducted and the impact that this experimentation may have on the public. The information may not be disclosed if it is not routinely available for public inspection under 47 CFR 0.457(d)(1)(ii) of the Commission's rules, or a request that the information be given confidential treatment is pending or has been granted under 47 CFR 0.459.

2. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

3. Law enforcement and Investigation—where there is an indication of a violation or potential violation of a statute, regulation, rule, or order, records from this system may be shared with appropriate Federal, State, or local authorities either for purposes of obtaining additional information relevant to a FCC decision or for referring the record for investigation, enforcement, or prosecution by another agency;

4. Congressional Inquiries—when requested by a Congressional office in response to an inquiry by an individual made to the Congressional office for their own records; and

5. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Information in this system of records includes paper records maintained in file folders, electronically scanned images of paper records, electronic records of data elements of both paper filed and electronically filed applications, and electronic copies of licenses granted after November 16, 1998. Per 47 CFR 5.55(b) all applications for experimental licensing must be filed electronically via the Internet.

RETRIEVABILITY:

Paper files are retrieved by license name. If there is more than one station per licensee, then the files may also be retrieved by call sign. Scanned images, electronic records of data elements, and electronic copies of licenses may be retrieved from the OET Experimental Licensing Branch Reports World Wide Web electronic filing and reporting site at https://gullfoss2.fcc.gov/prod/oet/cf/els/index.cfm.

SAFEGUARDS:

All files are available to the public except files not routinely available for public inspection as defined in 47 CFR 0.457(d)(1)(ii) and files that have been submitted in compliance with the confidentiality request requirements of 47 CFR 0.459. Files not routinely available and files pending or granted confidentiality are marked “NOT FOR PUBLIC INSPECTION” and may only be accessed by FCC employees who have a need to know the information. Data resident on network servers are backed-up routinely onto magnetic media. These back-up tapes are stored both on-site and in secured off-site storage locations.

RETENTION AND DISPOSAL:

These records are maintained for two years after expiration of the license. They are then disposed by shredding. Electronic records are destroyed physically (electronic storage media) or by electronic erasure.

SYSTEM MANAGER(S) AND ADDRESS:

Chief, Experimental Licensing Branch, Office of Engineering and Technology (OET), Federal Communications Commission, 445 12th Street, SW., Room 7-A267, Washington, DC 20554.

NOTIFICATION PROCEDURE:

Address inquiries to the system manager.

RECORDS ACCESS PROCEDURES:

Address inquiries to the system manager.

CONTESTING RECORD PROCEDURES:

Address inquiries to the system manager.

RECORD SOURCE CATEGORIES:

The majority of information in these records comes from individual applicants. Other information comes from coordination with other FCC bureaus and from data that are generated with the Spectrum Coordination Branch during the normal processing of the application.

EXEMPTIONS CLAIMED FOR THE SYSTEM:

None.

FCC/OET-2

SYSTEM NAME:

Equipment Authorization Records and Files.

SECURITY CLASSIFICATION:

None.

SYSTEM LOCATION:

Office of Engineering and Technology (OET), Laboratory Division, Federal Communications Commission (FCC), 7435 Oakland Mills Road, Columbia, MD 21046.

CATEGORIES OF INDIVIDUALS COVERED BY THE SYSTEM:

Individuals who have applied for or been granted an authorization to market equipment using the RF spectrum, in accordance with Part 2 of the Federal Communications Commission's (FCC) rules.

CATEGORIES OF RECORDS IN THE SYSTEM:

1. This system includes the following FCC Forms, any supporting exhibits submitted by the applicant(s), and related documentation:

(a) FCC Form 731, Application for Equipment Authorization;

(b) Any supporting exhibits submitted by the applicant(s).

2. This system of records may include test reports and other supporting documentation that demonstrates compliance with the technical rules for licensed transmitters and unlicensed devices as required by FCC Rules, parts 15 and 18.

AUTHORITY FOR MAINTENANCE OF THE SYSTEM:

47 U.S.C. 308.

PURPOSE(S):

These records are used to make a determination of compliance of equipment proposed for marketing with the administrative and technical requirements of the FCC as they relate to equipment using the RF spectrum; and to determine the interference potential of equipment proposed for marketing to equipment operating in both the licensed and unlicensed radio services.

ROUTINE USES OF RECORDS MAINTAINED IN THE SYSTEM, INCLUDING CATEGORIES OF USERS AND THE PURPOSES OF SUCH USES:

Information about individuals in this system of records may routinely be disclosed under the following conditions:

1. Public access—information from this system on granted equipment authorizations may be disclosed to the public if it is routinely available for public inspection under 47 CFR 0.457(d)(1)(ii) and a request has not been made or granted to give the information confidential treatment under 47 CFR 0.459. Pending equipment authorization requests are specifically excluded from disclosure prior to the effective date of the authorization, as specified in 0.457(d)(1)(ii).

2. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

3. Law enforcement and Investigation—where there is an indication of a violation or potential violation of a statute, regulation, rule, or order, records from this system may be shared with appropriate Federal, State, or local authorities either for purposes of obtaining additional information relevant to an FCC decision or for referring the record for investigation, enforcement, or prosecution by another agency;

4. Congressional Inquiries—when requested by a Congressional office in response to an inquiry by an individual made to the Congressional office for their own records; and

5. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each case the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

The equipment authorization database is the repository for all electronically filed applications for equipment authorization and associated information. Per 47 CFR 2.913(a), all applications for equipment authorization must be filed electronically via the Internet.

RETRIEVABILITY:

Scanned images, electronic records of data elements, and electronic copies of granted licenses may be retrieved from the OET Equipment Authorization Electronic Filing World Wide Web site at https://gullfoss2.fcc.gov/prod/oet/cf/eas/index.cfm by clicking on the desired link in the Reports section on the left hand side of the page.

SAFEGUARDS:

All files are available to the public except files not routinely made publicly available under 47 CFR 0.457 or those where a request for confidentiality is pending or has been granted under 47 CFR 0.459. Files which are not routinely made publicly available and those with a pending or granted request for confidentiality may only be accessed by Commission employees who have a need to know the information. Data resident on the database server at the OET Laboratory are backed-up routinely onto magnetic media. Back-up tapes are stored on-site and at the FCC Headquarters location.

RETENTION AND DISPOSAL:

The retention schedule for this system of records has not yet been determined. No records will be destroyed until a disposal schedule is approved by the National Archives and Records Administration (NARA).

SYSTEM MANAGER(S) AND ADDRESS:

Chief, Laboratory Division, Office of Engineering and Technology (OET), Federal Communications Commission (FCC), 7435 Oakland Mills Road, Columbia, MD 21046.

NOTIFICATION PROCEDURE:

Address inquiries to the system manager.

RECORDS ACCESS PROCEDURES:

Address inquiries to the system manager.

CONTESTING RECORD PROCEDURES:

Address inquiries to the system manager.

RECORD SOURCE CATEGORIES:

Information supplied by individuals wishing to receive equipment authorization.

EXEMPTIONS CLAIMED FOR THE SYSTEM:

None.

FCC/OGC-3

SYSTEM NAME:

Adjudication of Internal Complaints against Employees.

SECURITY CLASSIFICATION:

None.

SYSTEM LOCATION:

Office of General Counsel (OGC), Federal Communications Commission (FCC), 445 12th Street, SW., Room 8-C743, Washington, DC 20554.

CATEGORIES OF INDIVIDUALS COVERED BY THE SYSTEM:

Any Federal Communications Commission (FCC) employee who is the subject of a complaint investigation involving internal personnel actions or activities, i.e., discrimination, grievance, political activity, separation, or adverse action.

CATEGORIES OF RECORDS IN THE SYSTEM:

Records involve internal personnel disputes that have reached the hearing stage, and may include correspondence, memoranda, transcripts of hearings, briefs, pleadings, investigative reports, and decisions of hearing examiners and Commissioners.

AUTHORITY FOR MAINTENANCE OF THE SYSTEM:

5 U.S.C. 301.

PURPOSE(S):

These records are used by staff attorneys in the General Counsel's office in settlement negotiations with opposing parties; records are also used in preparation for hearings before an administrative body or a court of appropriate jurisdiction.

ROUTINE USES OF RECORDS MAINTAINED IN THE SYSTEM, INCLUDING CATEGORIES OF USERS AND THE PURPOSES OF SUCH USES:

Information about individuals in this system of records may routinely be disclosed under the following conditions:

1. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

2. Law enforcement and Investigation—where there is an indication of a violation or potential violation of a statute, regulation, rule, or order, records from this system may be shared with appropriate Federal, State, or local authorities either for purposes of obtaining additional information relevant to a FCC decision or for referring the record for investigation, enforcement, or prosecution by another agency;

3. Congressional Inquiries—when requested by a Congressional office in response to an inquiry by an individual made to the Congressional office for their own records;

4. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

5. Employment, Clearances, Licensing, Contract, Grant, or other Benefits Decisions by the agency—disclosure may be made to a Federal, State, local, or foreign agency maintaining civil, criminal, or other relevant enforcement records, or other pertinent records, or to another public authority or professional organization, if necessary to obtain information relevant to an investigation concerning the retention of an employee or other personnel action (other than hiring), the retention of a security clearance, the letting of a contract, or the issuance or retention of a grant or other benefit;

6. Employment, Clearances, Licensing, Contract, Grant, or other Benefits Decisions by other than the agency—disclosure may be made to a Federal, State, local, foreign, tribal, or other public authority of the fact that this system of records contains information relevant to the retention of an employee, the retention of a security clearance, the letting of a contract, or the issuance or retention of a license, grant, or other benefit. The other agency or licensing organization may then make a request supported by the written consent of the individual for the entire records if it so chooses. No disclosure will be made unless the information has been determined to be sufficiently reliable to support a referral to another office within the agency or to another Federal agency for criminal, civil, administrative, personnel, or regulatory action; and

7. Labor Relations—A record from this system may be disclosed to officials of labor organizations recognized under 5 U.S.C. Chapter 71 upon receipt of a formal request and in accord with the conditions of 5 U.S.C. 7114 when relevant and necessary to their duties of exclusive representation concerning personnel policies, practices, and matters affecting working conditions. In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

The information is stored in file folders.

RETRIEVABILITY:

Records are retrieved by the name of the subject individual in the investigation.

SAFEGUARDS:

Records are maintained in file cabinets in an office that is secured at the end of each business day. Since only one or two staff persons routinely access this record system, unauthorized examination during business hours would be easily detected.

RETENTION AND DISPOSAL:

Records are kept for five years after the closure of each case. They are then shredded.

SYSTEM MANAGER(S) AND ADDRESS:

Office of General Counsel (OGC), Federal Communications Commission (FCC), 445 12th Street, SW., Room 8-C743, Washington, DC 20554.

NOTIFICATION PROCESS:

Address inquiries to the system manager.

RECORD ACCESS PROCEDURE:

Address inquiries to the system manager.

CONTESTING RECORD PROCEDURE:

Address inquiries to the system manager.

RECORD SOURCE CATEGORIES:

Claimants, co-workers of subject individual, other supervisors, classification experts, and other persons involved in the case.

EXEMPTIONS CLAIMED FOR THE SYSTEM:

None.

FCC/OGC-5

SYSTEM NAME:

Pending Civil Cases.

SECURITY CLASSIFICATION:

None.

SYSTEM LOCATION:

Office of General Counsel (OGC), Federal Communications Commission (FCC), 445 12th Street, SW., Room 8-C743, Washington, DC 20554.

CATEGORIES OF INDIVIDUALS COVERED BY THE SYSTEM:

Any individual who has a miscellaneous case involving the Federal Communications Commission (FCC) before any District Court, before any Court of Appeals, and before the Supreme Court.

CATEGORIES OF RECORDS IN THE SYSTEM:

Letters, memoranda, pleadings, briefs, and bankruptcy papers.

AUTHORITY FOR MAINTENANCE OF THE SYSTEM:

47 U.S.C. 401 and 402.

PURPOSE(S):

Information in this system of records is used by Commission attorneys to update information or furnish additional data for the Government agency handling the case.

ROUTINE USES OF RECORDS MAINTAINED IN THE SYSTEM, INCLUDING CATEGORIES OF USERS AND THE PURPOSES OF SUCH USES:

Information about individuals in this system of records may routinely be disclosed under the following conditions:

1. Public access—the records contained in this system are available for public inspection to the extent that they do not contain information usually exempt from mandatory disclosure under Exemption 5 of the FOIA, 5 U.S.C. 552(b)(5).

2. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

3. Law enforcement and Investigation—where there is an indication of a violation or potential violation of a statute, regulation, rule, or order, records from this system may be shared with appropriate Federal, State, or local authorities either for purposes of obtaining additional information relevant to a FCC decision or for referring the record for investigation, enforcement, or prosecution by another agency;

4. Congressional Inquiries—when requested by a Congressional office in response to an inquiry by an individual made to the Congressional office for their own records; and

5. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Information in this system of records consists of paper records that are stored in file folders.

RETRIEVABILITY:

Records are retrieved by the name of the individual filing the claim.

SAFEGUARDS:

Records are maintained in file cabinets that are secured at the end of each business day.

RETENTION AND DISPOSAL:

The records are destroyed by shredding when no longer needed or after five years, whichever occurs first.

SYSTEM MANAGER(S) AND ADDRESS:

Office of General Counsel (OGC), Federal Communications Commission (FCC), 445 12th Street, SW., Room 8-C743, Washington, DC 20554.

NOTIFICATION PROCEDURE:

Address inquiries to the system manager.

RECORD ACCESS PROCEDURE:

Address inquiries to the system manager.

CONTESTING RECORD PROCEDURES:

Address inquiries to the system manager.

RECORD SOURCE CATEGORIES:

Justice Department: U.S. Attorneys; other Federal agencies: U.S. District Courts; and parties to the proceedings.

EXEMPTIONS CLAIMED FOR THE SYSTEM:

None.

FCC/OGC-6

SYSTEM NAME:

Private or Civil Injury Claimants.

SECURITY CLASSIFICATION:

None.

SYSTEM LOCATION:

Office of General Counsel (OGC), Federal Communications Commission (FCC), 445 12th Street, SW., Room 8-C743, Washington, DC 20554.

CATEGORIES OF INDIVIDUALS COVERED BY THE SYSTEM:

Any individual who files a damage claim against the Federal Communications Commission (FCC) or commits a tort against a FCC employee.

CATEGORIES OF RECORDS IN THE SYSTEM:

Information in this system of records includes accident reports, tort claim vouchers, correspondence, memoranda, medical and payment receipts, repair and payment receipts, and pictures.

AUTHORITY FOR MAINTENANCE OF THE SYSTEM:

28 U.S.C. 2672.

PURPOSE(S):

Information in these records is used by attorneys in the Office of General Counsel to determine whether a damage claim filed against the FCC should be paid and for reference purposes when similar cases arise. If it is determined that the claim should not be paid or if the FCC cannot make the final determination whether or not to pay a claim, the record is routinely transferred to the appropriate agency charged with the responsibility of disposition.

ROUTINE USES OF RECORDS MAINTAINED IN THE SYSTEM, INCLUDING CATEGORIES OF USERS AND THE PURPOSES OF SUCH USES:

Information about individuals in this system of records may routinely be disclosed under the following conditions:

1. Public access—the records contained in this system are available for public inspection to the extent that they do not contain information usually exempt from mandatory disclosure under Exemption 5 of the FOIA, 5 U.S.C. 552(b)(5).

2. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

3. Law Enforcement and Investigation—where there is an indication of a violation or potential violation of a statute, regulation, rule, or order, records from this system may be shared with appropriate Federal, State, or local authorities either for purposes of obtaining additional information relevant to a FCC decision or for referring the record for investigation, enforcement, or prosecution by another agency;

4. Congressional Inquiries—when requested by a Congressional office in response to an inquiry by an individual made to the Congressional office for their own records; and

5. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Information is stored in file folders.

RETRIEVABILITY:

Records are retrieved by the name of the individual who filed the claim.

SAFEGUARDS:

Records are kept in a file cabinet that is locked at the end of each business day. Since only one or two office persons routinely access this system, unauthorized examination during business hours would be easily detected.

RETENTION AND DISPOSAL:

Records are destroyed by shredding five years after the closure of the case.

SYSTEM MANAGER(S) AND ADDRESS:

Office of General Counsel (OGC), Federal Communications Commission (FCC), 445 12th Street, SW., Room 8-C743, Washington, DC 20554.

NOTIFICATION PROCEDURE:

Address inquiries to the system manager.

RECORD ACCESS PROCEDURE:

Address inquiries to the system manager.

CONTESTING RECORD PROCEDURES:

Address inquiries to the system manager.

RECORD SOURCE CATEGORIES:

Witnesses: Office of General Counsel; Office of Managing Director: claimants; and employees.

EXEMPTIONS CLAIMED FOR THE SYSTEM:

None.

FCC/OIG-1

SYSTEM NAME:

Criminal Investigative Files.

SECURITY CLASSIFICATION:

None.

SYSTEM LOCATION:

Office of Inspector General (OIG), Federal Communications Commission (FCC), 445 12th Street, SW., Room 2-C762, Washington, DC 20554.

CATEGORIES OF INDIVIDUALS COVERED BY THIS SYSTEM:

Records on individuals, including present and former Federal Communications Commission (FCC) employees, who are or have been the subjects of criminal investigations conducted by the Office of Inspector General (OIG).

CATEGORIES OF RECORDS IN THE SYSTEM:

1. Case files developed during investigations of known or alleged fraud, waste, and abuse, or other irregularities or violations of criminal laws and regulations;

2. Case files related to programs and operations administered or financed by the FCC, including contractors and others doing business with the FCC;

3. Investigative files relating to FCC employees' hotline complaints and other miscellaneous complaint files; and

4. Investigative reports and related documents, such as correspondence, notes, attachments, and working papers.

AUTHORITY FOR MAINTENANCE OF THE SYSTEM:

Inspector General Act of 1978, as amended by Public Law 100-504, October 18, 1988.

PURPOSE(S):

This system of records maintains information needed to:

1. Document investigations designed to prevent or detect fraud, waste, or abuse;

2. Conduct and supervise audits and investigations relating to programs and operations in the Commission; and

3. Inform the Chairman about problems and deficiencies in the FCC's programs and operations or to suggest corrective action in reference to identified irregularities, problems, or deficiencies.

ROUTINE USES OF RECORDS MAINTAINED IN THE SYSTEM, INCLUDING CATEGORIES OF USERS AND THE PURPOSES OF SUCH USES:

Information about individuals in this system of records may routinely be disclosed under the following conditions:

1. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

2. Law Enforcement and Investigation—where there is an indication of a violation or potential violation of a statute, regulation, rule, or order, records from this system may be shared with appropriate Federal, State, or local authorities either for purposes of obtaining additional information relevant to a FCC decision or for referring the record for investigation, enforcement, or prosecution by another agency;

3. Congressional Inquiries—when requested by a Congressional office in response to an inquiry by an individual made to the Congressional office for their own records; and

4. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Information is contained in paper records maintained in file folders or in an automated electronic database maintained on computer diskettes or on a computer network.

RETRIEVABILITY:

Records are filed alphabetically by name of the subject of the investigation or by a unique file number assigned to each investigation.

SAFEGUARDS:

Paper and diskette records are kept in locked file cabinets that are further secured at the end of each business day. Limited access to these records is permitted by those persons whose official duties require such access; thus, unauthorized examination during business hours would be easily detected. Data resident on network servers are backed-up routinely onto magnetic media. Back-up tapes are securely stored on-site and at an off-site storage location.

RETENTION AND DISPOSAL:

The retention schedule for this system of records has not yet been determined. No records will be destroyed until a disposal schedule is approved by the National Archives and Records Administration (NARA).

SYSTEM MANAGER(S) AND ADDRESS:

Inspector General, Office of Inspector General (OIG), Federal Communications Commission (FCC), 445 12th Street, SW., Room 2-C762, Washington, DC 20554.

NOTIFICATION PROCEDURE:

Under the authority granted to heads of agencies by 5 U.S.C. 552a(k), the FCC has determined (47 CFR 0.561) that this system of records is exempt from disclosing its notification procedure for this system of records.

RECORD ACCESS PROCEDURES:

Under the authority granted to heads of agencies by 5 U.S.C. 552a(k), the FCC has determined (47 CFR 0.561) that this system of records is exempt from disclosing its record access procedures for this system of records.

CONTESTING RECORD PROCEDURE:

Under the authority granted to heads of agencies by 5 U.S.C. 552a(k), the FCC has determined (47 CFR 0.561) that this system of records is exempt from disclosing its contesting record procedures for this system of records.

RECORD SOURCE CATEGORIES:

Under the authority granted to heads of agencies by 5 U.S.C. 552a(k), the FCC has determined (47 CFR 0.561) that this system of records is exempt from disclosing its record sources for this system of records.

EXEMPTION FROM CERTAIN PROVISIONS OF THE ACT:

This system of records is exempt from sections (c)(3), (d), (e)(4)(G), (H), and (I), and (f) of the Privacy Act of 1974, 5 U.S.C. 552a, and from 47 CFR 0.554-0.557 of the Commission's rules. These provisions concern the notification, record access, and contesting procedures described above, and also the publication of record sources. The system is exempt from these provisions because it contains the following types of information:

1. Investigative material compiled for law enforcement purposes as defined in Section (k)(2) of the Privacy Act;

2. Properly classified information, obtained from another Federal agency during the course of a personnel investigation, which pertains to national defense and foreign policy, as stated in Section (k)(1) of the Privacy Act; and

3. Investigative material compiled solely for the purpose of determining suitability, eligibility, or qualifications for Federal civilian employment, as described in Section (k)(5) of the Privacy Act, as amended.

FCC/OIG-2

SYSTEM NAME:

General Investigative Files.

SECURITY CLASSIFICATION:

None.

SYSTEM LOCATION:

Office of Inspector General (OIG), Federal Communications Commission (FCC), 445 12th Street, SW., Room 2-C762, Washington, DC 20554.

CATEGORIES OF INDIVIDUALS COVERED BY THIS SYSTEM:

Information on individuals, including present and former Federal Communications Commission (FCC) employees, who are or have been the subjects of general investigations conducted by the Office of the Inspector General (OIG) relating to allegations raised pertaining to fraud, waste, and abuse with respect to programs and operations of the Commission.

CATEGORIES OF RECORDS IN THE SYSTEM:

1. Case files developed during investigations of known or alleged fraud, waste, and abuse, or other irregularities or violations of laws and regulations;

2. Case files related to programs and operations administered or financed by the FCC, including contractors and others doing business with the FCC;

3. Investigative files related to FCC employee's hotline complaints, and other miscellaneous complaint files; and

4. Investigative reports and related documents, which may include such information as correspondence, notes, attachments, and working papers.

AUTHORITY FOR MAINTENANCE OF THE SYSTEM:

Inspector General Act of 1978, as amended by P.L. 100-504, October 18, 1988.

PURPOSE(S):

These records are collected and maintained for the purposes of:

1. Preventing or detecting waste, fraud, or abuse;

2. Conducting and supervising audits and investigations relating to programs and operations;

3. Informing the Chairman about problems and deficiencies in the Commission's programs and operations; or

4. Suggesting corrective action in reference to identified irregularities, problems, or deficiencies the FCC's Inspector General establishes in this system of records.

ROUTINE USES OF RECORDS MAINTAINED IN THE SYSTEM, INCLUDING CATEGORIES OF USERS AND THE PURPOSES OF SUCH USES:

Information about individuals in this system of records may routinely be disclosed under the following conditions:

1. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

2. Law Enforcement and Investigation—where there is an indication of a violation or potential violation of a statute, regulation, rule, or order, records from this system may be shared with appropriate Federal, State, or local authorities either for purposes of obtaining additional information relevant to a FCC decision or for referring the record for investigation, enforcement, or prosecution by another agency;

3. Congressional Inquiries—when requested by a Congressional office in response to an inquiry by an individual made to the Congressional office for their own records; and

4. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Information is contained in paper records maintained in file folders or in an automated electronic database maintained on computer diskettes or on a computer network.

RETRIEVABILITY:

Records are filed alphabetically by name of subject of the investigation or by a unique file number assigned to each investigation.

SAFEGUARDS:

Paper and diskette records are kept in locked file cabinets that are secured at the end of each business day. Limited access of these records is permitted by those persons whose official duties require such access; thus, unauthorized examination during business hours would be easily detected. Data resident on network servers are backed-up daily to magnetic media. One week's worth of back-up tapes is stored on-site in fireproof safes. Each week, the previous week's backup tapes are sent to an off-site storage location. A maximum of ten week's tapes are kept and cycled in this fashion.

RETENTION AND DISPOSAL:

The retention schedule for this system of records has not yet been determined. No records will be destroyed until a disposal schedule is approved by the National Archives and Records Administration (NARA).

SYSTEM MANAGER(S) AND ADDRESS:

Inspector General, Office of Inspector General (OIG), Federal Communications Commission, 445 12th Street, SW., Room 2-C762, Washington, DC.

NOTIFICATION PROCEDURE:

Under the authority granted to heads of agencies by 5 U.S.C. 552a(k), the FCC has determined (47 CFR 0.561) that this system of records is exempt from disclosing its notification procedures for this system of records.

RECORD ACCESS PROCEDURES:

Under the authority granted to heads of agencies by 5 U.S.C. 552a(k), the FCC has determined (47 CFR 0.561) that this system of records is exempt from disclosing its record access procedures for this system of records.

CONTESTING RECORD PROCEDURE:

Under the authority granted to heads of agencies by 5 U.S.C. 552a(k), the FCC has determined (47 CFR 0.561) that this system of records is exempt from disclosing its contesting record procedures for this system of records.

RECORD SOURCE CATEGORIES:

Under the authority granted to heads of agencies by 5 U.S.C. 552a(k), the FCC has determined (47 CFR 0.561) that this system of records is exempt from disclosing its record sources for this system of records.

EXEMPTION FROM CERTAIN PROVISIONS OF THE ACT:

This system of records is exempt from sections (c)(3), (d), (e)(4)(G), (H), and (I), and (f) of the Privacy Act of 1974, 5 U.S.C. 552a, and from 47 CFR 0.554-0.557 of the Commission's rules. These provisions concern the notification, record access, and contesting procedures described above, and also the publication of record sources. The system is exempt from these provisions because it contains the following types of information:

1. Investigative material compiled for law enforcement purposes as defined in Section (k)(2) of the Privacy Act;

2. Properly classified information, obtained from another Federal agency during the course of a personnel investigation, which pertains to national defense and foreign policy, as stated in Section (k)(1) of the Privacy Act; and

3. Investigative material compiled solely for the purpose of determining suitability, eligibility, or qualifications for Federal civilian employment, as described in Section (k)(5) of the Privacy Act, as amended.

FCC/OMD-2

SYSTEM NAME:

Labor Relations and Employee Performance Files

SECURITY CLASSIFICATION:

None.

SYSTEM LOCATION:

Human Resources Management (HRM), Office of Managing Director (OMD), Federal Communications Commission (FCC), 445 12th Street, SW., Room 1-B104, Washington, DC 20554.

CATEGORIES OF INDIVIDUALS COVERED BY THE SYSTEM:

Current and former Federal Communications Commission (FCC) employees.

CATEGORIES OF RECORDS IN THE SYSTEM:

This system contains a variety of records relating to formal and informal actions based on conduct or performance and also includes files dealing with grievances filed under the negotiated or administrative grievance procedures, requests for reconsideration, arbitrations, appeals, and miscellaneous inquiries and complaints. These records may include:

1. Case number, employee name, Social Security Number, grade, job title, and employment history; and

2. Copies of notices of proposed actions; materials relied on by the agency to support the proposed action; statements of witnesses; employee responses or appeals; transcripts; and agency decisions.

AUTHORITY FOR MAINTENANCE OF THE SYSTEM:

5 U.S.C. 35, 43, 61, 63, 71, 73, 75, and 77.

PURPOSE(S):

These records provide a method by which the FCC can maintain appropriate information on Commission employees for purposes such as litigation, law enforcement, congressional inquiries, labor organization inquiries, and government-wide program oversight.

ROUTINE USES OF RECORDS MAINTAINED IN THE SYSTEM, INCLUDING CATEGORIES OF USERS AND THE PURPOSES OF SUCH USE:

Information about individuals in this system of records may routinely be disclosed under the following conditions:

1. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

2. Law Enforcement and Investigation—where there is an indication of a violation or potential violation of a statute, regulation, rule, or order, records from this system may be shared with appropriate Federal, State, or local authorities either for purposes of obtaining additional information relevant to a FCC decision or for referring the record for investigation, enforcement, or prosecution by another agency;

3. Congressional Inquiries—when requested by a Congressional office in response to an inquiry by an individual made to the Congressional office for their own records;

4. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act;

5. Employment, Clearances, Licensing, Contract, Grant, or other Benefits Decisions by the agency—disclosure may be made to a Federal, State, local, or foreign agency maintaining civil, criminal, or other relevant enforcement records, or other pertinent records, or to another public authority or professional organization, if necessary to obtain information relevant to an investigation concerning the retention of an employee or other personnel action (other than hiring), the retention of a security clearance, the letting of a contract, or the issuance or retention of a grant, or other benefit;

6. Employment, Clearances, Licensing, Contract, Grant, or other Benefits Decisions by other than the agency—disclosure may be made to a Federal, State, local, foreign, tribal, or other public authority of the fact that this system of records contains information relevant to the retention of an employee, the retention of a security clearance, the letting of a contract, or the issuance or retention of a license, grant, or other benefit. The other agency or licensing organization may then make a request supported by the written consent of the individual for the entire records if it so chooses. No disclosure will be made unless the information has been determined to be sufficiently reliable to support a referral to another office within the agency or to another Federal agency for criminal, civil, administrative, personnel, or regulatory action; and

7. Labor Relations—a record from this system may be disclosed to officials of labor organizations recognized under 5 U.S.C. Chapter 71 upon receipt of a formal request and in accord with the conditions of 5 U.S.C. 7114 when relevant and necessary to their duties of exclusive representation concerning personnel policies, practices, and matters affecting working conditions. In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

These records are maintained in file folders.

RETRIEVABILITY:

These records are retrieved preliminarily by case number. An examination of case logs will disclose the name of an employee associated with a case number.

SAFEGUARDS:

These records are maintained in secured metal filing cabinets to which only authorized personnel have access.

RETENTION AND DISPOSAL:

Records in the following categories are disposed of at the end of the first fiscal year following completion of the fiscal year in which the action was taken:

1. Informal actions based on conduct or performance;

2. Oral admonishments confirmed in writing; and

3. Written reprimands.

Records pertaining to the following are disposed of at the end of the third fiscal year following completing of the fiscal year in which the action was taken:

1. Grievances processed under the negotiated or administrative grievance procedures;

2. Appeals;

3. Request for restoration of annual leave; and

4. Requests for admission to the agency's leave transfer program.

Records pertaining to the following matters are disposed of at the end of the fourth fiscal year following completion of the fiscal year in which the action was taken:

1. Within-grade increase denials/postponements;

2. Suspensions, removals, furloughs taken under authority of 5 U.S.C. chapters 35 and 75; and

3. Requests for reconsideration/review.

Records pertaining to the following matters are disposed of at the end of the fifth fiscal year following completion of the fiscal year in which the action was taken:

1. Removals, demotions, and reassignments based on unacceptable performance;

2. Arbitrations; and

3. Unfair labor practices.

Disposal is by shredding or burning.

SYSTEM MANAGER(S) AND ADDRESS:

Human Resources Management (HRM), Office of Managing Director (OMD), Federal Communications Commission (FCC), 445 12th Street, SW., Room 1-B104, Washington, DC 20554.

NOTIFICATION PROCEDURE:

Address inquiries to the system manager.

RECORD ACCESS PROCEDURES:

Address inquiries to the system manager.

CONTESTING RECORD PROCEDURES:

Address inquiries to the system manager.

RECORD SOURCE CATEGORIES:

Information in this system of records is provided by an individual on whom the record is maintained; testimony of witnesses; supervisors and managers; union officials; and arbitrators and other third-parties, e.g., Department of Labor, Federal Labor Relations Authority, and Merit System Protection Board.

EXEMPTIONS CLAIMED FOR THE SYSTEM:

None.

FCC/OMD-3

SYSTEM NAME:

Federal Advisory Committee Membership File (FACA).

SECURITY CLASSIFICATION:

None.

SYSTEM LOCATION:

1. General Files: Associate Managing Director—PERM, Office of Managing Director, Federal Communications Commission, 445 12th Street, SW., Room 1-C848, Washington, DC 20554.

2. Financial Disclosure Files: Office of General Counsel (OGC), 202-418-1712.

3. Committee-Specific Files: Files with more specific information are kept in the offices of the following Designated Federal Officials (DFO):

a. Advisory Committee for the 2007 World Radiocommunication Conference (WRC-2007): Designated Federal Officer (DFO: International Bureau; (202-418-7501).

b. Advisory Committee on Diversity for Communications in the Digital Age (Diversity): Designated Federal Officer (DFO: Vacant).

c. Consumer Advisory Committee (CAC): Designated Federal Officer (DFO: Consumer and Governmental Affairs Bureau; 202-418-2809).

d. Media Security and Reliability Council (MSRC): Designated Federal Officer (DFO: Media Bureau; 202-418-1600).

e. Network Reliability and Interoperability Council (NRIC): Designated Federal Officer (DFO: Office of Engineering and Technology; 202-418-1096).

f. North American Numbering Council (NANC): Designated Federal Officer (DFO: Wireline Competition Bureau; 202-418-0792).

g. Technological Advisory Council (TAC): Designated Federal Officer (DFO: Office of Engineering and Technology; 202-418-1096).

h. Katrina Independent Panel (Independent Panel): Designated Federal Officer (DFO: Enforcement Bureau; 202-418-7452).

CATEGORIES OF INDIVIDUALS COVERED BY THIS SYSTEM:

Individuals who are members of Federal Advisory Committees sponsored or co-sponsored by the Federal Communications Commission (FCC).

CATEGORIES OF RECORDS IN THE SYSTEM:

1. Individual advisory committee members' names, business addresses, e-mail addresses, business telephone numbers, and occupations or titles are kept with the members' respective advisory committee.

2. Copies or original financial disclosure forms (OGE-450), whenever they are necessary to be filed by committee members.

AUTHORITY FOR MAINTENANCE OF THE SYSTEM:

Federal Advisory Committee Act (5 U.S.C., Appendix).

PURPOSE(S):

This system of records is maintained in order to have current contact information about the members of the FCC's Federal Advisory Committees so that the FCC can communicate effectively and promptly with these individuals. The information in this system of records may also be used to complete mandatory reports to the Congress and GSA about Federal Advisory Committee matters. Finally, the information in this system of records may also be used by FCC employees to ensure compliance with all ethical and conflict-of-interest requirements relevant to the members of the FCC's Federal Advisory Committees.

ROUTINE USES OF RECORDS MAINTAINED IN THE SYSTEM, INCLUDING CATEGORIES OF USERS AND THE PURPOSES OF SUCH USES:

Information about individuals in this system of records may routinely be disclosed under the following conditions:

1. Committee communication and reporting—a record in this system may be used to distribute information to members of each committee for purposes of conducting meetings and general committee business or to prepare reports on the membership and work of the committee;

2. Public Access—the public can access information about the FCC, and all other, Federal Advisory Committees with the searchable database found on the Government Service Administration's Web site at http://www.gsa.gov/Portal/gsa/ep/contentView.do?P=MC&contentId=14451&contentType=GSA_BASIC;

3. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

4. Law Enforcement and Investigation—where there is an indication of a violation or potential violation of a statute, regulation, rule, or order, records from this system may be shared with appropriate Federal, State, or local authorities either for purposes of obtaining additional information relevant to a FCC decision or for referring the record for investigation, enforcement, or prosecution by another agency;

5. Congressional Inquiries—when requested by a Congressional office in response to an inquiry by an individual made to the Congressional office for their own records; and

6. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Paper records are maintained in file folders. Electronic data are stored on computer diskettes or in the FCC's computer database system.

RETRIEVABILITY:

Records are grouped primarily by name of committee or subcommittee. Under this filing hierarchy, records can then be retrieved by name of committee member.

SAFEGUARDS:

Paper records are maintained in file cabinets, which are locked at the end of each business day. Electronic data are stored on computer diskettes in locked cabinets in offices, which are locked at the end of the business day, or in the FCC's computer database system, which is secured by passwords that are available only to authorized personnel whose duties require access.

RETENTION AND DISPOSAL:

Records are retained for six years following the dissolution of the Committee and then destroyed by shredding. Electronic records are destroyed physically (electronic storage media) or by electronic erasure.

SYSTEM MANAGER(S) AND ADDRESS:

Associate Managing Director—PERM, Office of Managing Director (OMD), Federal Communications Commission (FCC), 445 12th Street, SW., Room 1-C848, Washington, DC 20554.

NOTIFICATION PROCEDURE:

Address inquiries to the system manager.

RECORD ACCESS PROCEDURES:

Address inquiries to the system manager.

CONTESTING RECORD PROCEDURES:

Address inquiries to the system manager.

RECORD SOURCE CATEGORIES:

Information provided by Committee members; developed as the result of the work of the Committees; and Designated Federal Officer (DFO) reporting on Committee membership and activities.

EXEMPTIONS CLAIMED FOR THE SYSTEM:

None.

OMD-6

SYSTEM NAME:

Financial Accounting Systems (FAS).

SECURITY CLASSIFICATION:

None.

SYSTEM LOCATION:

Financial Operations Center, Associate Managing Director Financial Operations (AMD-FO), Office of Managing Director (OMD), Federal Communications Commission (FCC), 445 12th Street, SW., Room 1-A663, Washington, DC 20554.

CATEGORIES OF INDIVIDUALS COVERED BY THE SYSTEM:

Information from all Federal Communications Commission (FCC) databases that provide financial accounting data. These databases include, but are not limited to, the FCC's older Revenue Accounting Management Information System (RAMIS) and the newer Federal Financial System (FFS). The data include information on:

1. Individuals making payments to cover forfeitures assessed, fees collected, services rendered, and direct loans; refunds for incorrect payments or overpayments (including application processing fees, travel advances, advanced sick leave, and advanced annual leave);

2. Individuals receiving payments for services rendered and reimbursement of expenses incurred on FCC business, e.g., travel costs;

3. Billing and collection of bad checks; and

4. Miscellaneous monies received by the Commission (including reimbursement authorized under the Travel Reimbursement Program covered by the government-wide systems of records: GSA/GOVT-3 and GSA/GOVT-4).

CATEGORIES OF RECORDS IN THE SYSTEM:

Record categories include: individual's name, Social Security Numbers (SSN), Individual Taxpayer Information Numbers (ITIN), FCC Registration Numbers (FRN), telephone numbers, addresses of individuals, records of services rendered, loan payment information, forfeitures assessed and collected, amounts, dates, check numbers, bank deposit information, transaction type information, United States Treasury deposit numbers, and information substantiating fees collected, refunds issued, and interest, penalties, and administrative charges assessed to individuals. Forms associated with this system of records are FCC Forms 159, 159-W, and 1070.

AUTHORITY FOR MAINTENANCE OF THE SYSTEM:

5 U.S.C. Chapter 57; 31 U.S.C. 3302(e); 44 U.S.C. 3101, 3102, and 3309; the Debt Collection Act as amended by the Debt Collection Improvement Act of 1996; Section 639 of the Consolidated Appropriations Act of 2005 (P.L. 108-447) 31 U.S.C. 3302(e); Federal Financial Management Improvement Act of 1996; Chief Financial Officers Act of 1990; Federal Managers Financial Integrity Act of 1982; and Executive Order 9397.

PURPOSE(S):

These records are used:

1. To account for all monies paid and received by the FCC from the public and refunded to the public;

2. To compute vouchers to determine amounts claimed and reimbursed; and

3. To account for all advances given to employees.

ROUTINE USES OF RECORDS MAINTAINED IN THE SYSTEM, INCLUDING CATEGORIES OF USERS AND THE PURPOSES OF SUCH USES:

Information about individuals in this system of records may routinely be disclosed under the following conditions:

1. Public access—when using the automated reporting tools of Fee Filer and the Red Light Display System, individuals conducting business with the FCC can—using their FCC Registration Number and a password—access their own records in the Financial Accounting Systems to determine what fees they owe;

2. Financial obligations under the Debt Collection Acts—a record from this system may be disclosed to other Federal agencies for the purpose of collecting and reporting on delinquent debts as authorized by the Debt Collection Act of 1982 or the Debt Collection Improvement Act of 1996. A record from this system may be disclosed to any Federal, state, or local agency to conduct an authorized computer matching program in compliance with the Privacy Act of 1974, as amended, to identify and locate individuals who are delinquent in their repayment of certain debts owed to the U.S. Government. A record from this system may be used to prepare information on items considered income for taxation purposes to be disclosed to Federal, state, and local governments;

3. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

4. Law Enforcement and Investigation—where there is an indication of a violation or potential violation of a statute, regulation, rule, or order, records from this system may be shared with appropriate Federal, State, or local authorities either for purposes of obtaining additional information relevant to a FCC decision or for referring the record for investigation, enforcement, or prosecution by another agency;

5. Congressional Inquiries—when requested by a Congressional office in response to an inquiry by an individual made to the Congressional office for their own records;

6. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act;

7. Employment, Clearances, Licensing, Contract, Grant, or other Benefits Decisions by the agency—disclosure may be made to a Federal, State, local, or foreign agency maintaining civil, criminal, or other relevant enforcement records, or other pertinent records, or to another public authority or professional organization, if necessary to obtain information relevant to an investigation concerning the retention of an employee or other personnel action (other than hiring), the retention of a security clearance, the letting of a contract, or the issuance or retention of a grant or other benefit;

8. Employment, Clearances, Licensing, Contract, Grant, or other Benefits Decisions by other than the agency—disclosure may be made to a Federal, State, local, foreign, tribal, or other public authority of the fact that this system of records contains information relevant to the retention of an employee, the retention of a security clearance, the letting of a contract, or the issuance or retention of a license, grant, or other benefit. The other agency or licensing organization may then make a request supported by the written consent of the individual for the entire records if it so chooses. No disclosure will be made unless the information has been determined to be sufficiently reliable to support a referral to another office within the agency or to another Federal agency for criminal, civil, administrative, personnel, or regulatory action; and

9. Labor Relations—A record from this system may be disclosed to officials of labor organizations recognized under 5 U.S.C. Chapter 71 upon receipt of a formal request and in accord with the conditions of 5 U.S.C. 7114 when relevant and necessary to their duties of exclusive representation concerning personnel policies, practices, and matters affecting working conditions. In each of these cases, the FCC will determine whether disclosure of the records is compatible with the purpose for which the records were collected.

DISCLOSURE TO CONSUMER REPORTING AGENCIES:

Disclosures pursuant to 5 U.S.C. 552a (b)(12): The Department of Treasury may disclose to a consumer reporting agency information regarding a claim by the Commission which is determined to be valid and overdue as follows: The name, address, SSN or ITIN, and other information necessary to establish the identity of the individual or organization responsible for the claim;

1. The amount, status, and history of the claim; and

2. The program under which the claim arose.

The Commission may disclose the information specified in this paragraph under 5 U.S.C. 552a (b)(12) and the procedures contained in subsection 31 U.S.C. 3711(e). A consumer reporting agency to which these disclosures may be made is defined at 31 U.S.C. 3701(a)(3).

POLICIES AND PRACTICES FOR STORING, RETRIEVING, ACCESSING, RETAINING, AND DISPOSING OF RECORDS IN THE SYSTEM:

STORAGE:

Records are maintained in paper files, computer printouts, microfilm, microfiche, magnetic disc and magnetic tape.

RETRIEVABILITY:

Records in this system of records can be retrieved by name and/or type of transaction, call sign, processing number, SSN, ITIN, FRN, vendor code, Soundex number, fee control number, payment ID number, or sequential number.

SAFEGUARDS:

Records are located in secured metal file cabinets and metal vaults in secured rooms or secured premises, with access limited to those individuals whose official duties required access. Electronic record files are secured by passwords, which are available only to authorized personnel whose duties require access.

RETENTION AND DISPOSAL:

These records are retained at the FCC for two years following the end of the current fiscal year. They are then transferred to the Federal Records Center and destroyed by shredding when 6 years and 3 months old. Electronic records are destroyed physically (electronic storage media) or by electronic erasure.

SYSTEM MANAGER(S) AND ADDRESS:

Financial Operations Center, Associate Managing Director—Financial Operations (AMD-FO), Office of Managing Director (OMD), Federal Communications Commission (FCC), 445 12th Street, SW., Room 1-A663, Washington, DC 20554.

NOTIFICATION PROCEDURE:

Address inquiries to the system manager.

RECORD ACCESS PROCEDURES:

Address inquiries to the system manager.

CONTESTING RECORD PROCEDURE:

Address inquiries to the system manager.

RECORD SOURCE CATEGORIES:

Subject individual, Federal Reserve Bank, agent of subject, and Attorney-at-Law of the subject individual.

EXEMPTIONS CLAIMED FOR THE SYSTEM:

None.

FCC/OMD-7

SYSTEM NAME:

FCC Employee Transit Benefit and Parking Permit Programs.

SECURITY CLASSIFICATION:

None.

SYSTEM LOCATION:

Administrative Services Center (ASC), Associate Managing Director—Administrative Operations (AMD-AO), Office of the Managing Director (OMD), Federal Communications Commission (FCC), 445 12th Street, SW., Room TW-C201, Washington, DC 20554.

Information related to those employees who participate in the SmarTrip portion of the benefits program is also stored in a database administered by the Washington Metropolitan Area Transit Authority, headquartered at 600 Fifth Street, NW., Washington, DC 20001.

CATEGORIES OF INDIVIDUALS COVERED BY THIS SYSTEM:

FCC employees who apply for and participate in the FCC Transit Benefit and Parking Permit Programs, e.g., holders of parking permits and members of carpools and vanpools; recipients with handicap status for parking assignments; and applicants and recipients of fare subsidies issued by FCC.

CATEGORIES OF RECORDS IN THE SYSTEM:

Information required to administer the Transit Benefit and Parking Permit Programs that serves to determine the applicant's qualification based on handicap status, to determine their mode of transportation to and from work, and to certify their monthly commuting cost to and from work. These records include the following:

1. Employee Transit Benefit Program applications, Transit Benefit certifications, change of information on Employee Transit Benefit Program application of the transit benefit recipients, parking applications, vanpool and carpool verification, employee parking rosters, employee handicap verification, and executive staff information.

2. Data regarding the organizational location, telephone number, FCC badge number, home address, vehicle make/model, license plate number, handicap status documents, van/carpool information, executive status, mode of transportation and monthly cost of transportation of any applicant who has submitted an application for the Transit Benefit and/or Parking Permit Programs.

3. Records and reports of disbursements to transit benefit recipients, parking permit recipients, handicap status, and information on local public mass transit facilities.

Forms associated with this system of records include A-27, A-75, and A-75A.

AUTHORITY FOR MAINTENANCE OF THE SYSTEM:

Statutory authority to provide public transportation, parking records, and handicap parking services is derived from 5 U.S.C. 7901 and 7905, 5 U.S.C. 301, and Executive Order 13105.

PURPOSE(S):

1. These records are used to support the FCC's program that provides allowed transportation and parking subsidies to Federal employees.

2. This information is also used for auditing purposes to ensure the accuracy and integrity of the program, to qualify and to certify beneficiaries of the program, and to prepare listings and reports for use by the FCC and the other Federal, state, and local agencies charged with oversight of or contribution to the program.

ROUTINE USES OF RECORDS MAINTAINED IN THE SYSTEM, INCLUDING CATEGORIES OF USERS AND THE PURPOSES OF SUCH USES:

Information about individuals in this system of records may routinely be disclosed under the following conditions:

1. Financial obligations as required by the National Finance Center et al.—when the National Finance Center (the FCC's designated payroll office), the Department of the Treasury Debt Management Services, and/or a current employer to effect a salary, IRS tax refund, or administrative offset to satisfy an indebtedness; and to Federal agencies to identify and locate former employees for the purposes of collecting such indebtedness, including through administrative, salary, or tax refund offsets. Identifying and locating former employees, and the subsequent referral to such agencies for offset purposes, may be accomplished through authorized computer matching programs. Disclosures will be made only when all procedural steps established by the Debt Collection Act of 1982 and the Debt Collection Improvement Act of 1996 or the Computer Matching and Privacy Protection Act of 1988 as appropriate, have been taken;

2. Program partner—when information is disclosed to the Washington Metropolitan Area Transit Authority (WMATA) in connection with employees participating in their SmarTrip program (http://www.wmata.com/riding/smartrip.cfm);

3. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

3. Law Enforcement and Investigation—where there is an indication of a violation or potential violation of a statute, regulation, rule, or order, records from this system may be shared with appropriate Federal, State, or local authorities either for purposes of obtaining additional information relevant to a FCC decision or for referring the record for investigation, enforcement, or prosecution by another agency;

4. Congressional Inquiries—when requested by a Congressional office in response to an inquiry by an individual made to the Congressional office for their own records;

5. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act; and

6. Labor Relations—A record from this system may be disclosed to officials of labor organizations recognized under 5 U.S.C. Chapter 71 upon receipt of a formal request and in accord with the conditions of 5 U.S.C. 7114 when relevant and necessary to their duties of exclusive representation concerning personnel policies, practices, and matters affecting working conditions.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Records are maintained in file folders, in the transit benefit and parking permit computer databases, and in the Washington Metropolitan Area Transit Authority database associated with the SmartTrip program.

RETRIEVABILITY

Records are retrieved by the employee's name, or by the FCC Badge identification number, tag, and/or permit number.

SAFEGUARDS:

Records are maintained in a secured area and are available only to authorized personnel, e.g., FCC and contract personnel, whose duties require access. Computer databases are setup with a secured password. File cabinets where the records are stored are controlled by on-site personnel when unlocked and locked when not in use. All transit benefits and parking permits are kept in a locked cash box contained in a (cylinder lock) drawer. At close of business, the cash box is secured in a government issued safe with a combination lock.

RETENTION AND DISPOSAL:

Records under the control of the FCC are retained for three years in accordance with the General Records Schedule 6 established by the National Archives and Records Administration at http://www.archives.gov/records-mgmt/ardor/grs06.html. Records are then shredded. Electronic records are destroyed physically (electronic storage media) or by electronic erasure.

SYSTEM MANAGER(S) AND ADDRESS:

Administrative Services Center (ASC), Associate Managing Director-Administrative Operations (AMD-AO), Office of the Managing Director (OMD), Federal Communications Commission (FCC), 445 12th Street, SW., Room TW-C201, Washington, DC 20554.

NOTIFICATION PROCEDURE:

Address inquiries to the system manager.

RECORD ACCESS PROCEDURES:

Address inquiries to the system manager.

CONTESTING RECORD PROCEDURES:

Address inquiries to the system manager.

RECORD SOURCE CATEGORIES:

Information is obtained from applications submitted by individuals for the Transit Benefit and Parking Permit Programs.

EXEMPTIONS CLAIMED FOR THE SYSTEM:

None.

FCC/OMD-9

SYSTEM NAME:

Commission Registration System (CORES).

SECURITY CLASSIFICATION:

None.

SYSTEM LOCATION:

Financial Operations Center, Associate Managing Director—Financial Operations (AMD-FO), Office of Managing Director (OMD), Federal Communications Commission (FCC), 445 12th Street, SW., Room 1-A625, Washington, DC 20554.

CATEGORIES OF INDIVIDUALS COVERED BY THE SYSTEM:

Information on individuals who have requested a Federal Communications Commission (FCC) Registration Number (FRN) from the Commission Registration System (CORES). A FRN is mandatory for those wishing to conduct business with the Federal Communications Commission.

CATEGORIES OF RECORDS IN THE SYSTEM:

Records include: names, address(es), Social Security Numbers (SSN), Individual Taxpayer Identification Numbers (ITIN), FCC Registration Numbers (FRN), telephone number(s), fax number(s), and e-mail address(es). The FRN paper-based registration forms are FCC Forms 160, 161, and 162.

AUTHORITY FOR MAINTENANCE OF THE SYSTEM:

31 U.S.C. 3302(e); 44 U.S.C. 3101, 3102, and 3309; Debt Collection Act as amended by the Debt Collection Improvement Act of 1996; the Federal Financial Management Improvement Act of 1996; the Chief Financial Officers Act of 1990; and the Federal Managers Financial Integrity Act of 1982.

PURPOSE(S):

The primary use of the records contained in this database is to develop and maintain a Commission-wide method of recognizing and interacting with those individuals who are doing business with the Commission as defined in 31 U.S.C. 7701(c)(2) and who incur application or regulatory fee obligations. This FRN registration number collaterally allows the Commission to ensure that monies paid are properly matched with debts and obligations due (see FCC/OMD-6 for the system of records covering these activities).

ROUTINE USES OF RECORDS MAINTAINED IN THE SYSTEM, INCLUDING CATEGORIES OF USERS AND THE PURPOSES OF SUCH USES:

Information about individuals in this system of records may routinely be disclosed under the following conditions:

1. Public access—a search on the Commission's CORES Web site at https://svartifoss2.fcc.gov/coresWeb/publicHome.do can be conducted by using an individual's last name and would result in a list of all those registered with the FCC under that last name, as well as the associated FRN, address, and registration date unless such information is routinely withheld under 47 CFR 0.457 or a request has been made or granted to give the information confidential treatment under 47 CFR 0.459;

2. Financial obligations under the Debt Collection Acts—a record from this system may be disclosed to other Federal agencies for the purpose of collecting and reporting on delinquent debts as authorized by the Debt Collection Act of 1982 or the Debt Collection Improvement Act of 1996. A record from this system may be disclosed to any Federal, state, or local agency to conduct an authorized computer matching program in compliance with the Privacy Act of 1974, as amended, to identify and locate individuals who are delinquent in their repayment of certain debts owed to the U.S. Government. A record from this system may be used to prepare information on items considered income for taxation purposes to be disclosed to Federal, state, and local governments;

3. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

4. Law Enforcement and Investigation—where there is an indication of a violation or potential violation of a statute, regulation, rule, or order, records from this system may be shared with appropriate Federal, State, or local authorities either for purposes of obtaining additional information relevant to a FCC decision or for referring the record for investigation, enforcement, or prosecution by another agency;

5. Congressional Inquiries—when requested by a Congressional office in response to an inquiry by an individual made to the Congressional office for their own records; and

6. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

CORES is a computer database. Information in this system of records is stored primarily on computer hard drives. Secondarily, some information from this system of records may also be maintained in paper files, computer printouts, or magnetic tape.

RETRIEVABILITY:

Records in this system of records can be retrieved by name and/or type of transaction, processing number, SSN, ITIN, FRN, or sequential number.

SAFEGUARDS:

Records are located in secured metal file cabinets, metal vaults, and in metal file cabinets in secured rooms or secured premises, with access limited to those individuals whose official duties required access. Electronic record files are secured by passwords, which are available only to authorized personnel whose duties require access. Data resident on network servers are backed-up daily to magnetic media. One week's worth of back-up tapes is stored on-site in fireproof safes. Each week, the previous week's backup tapes are sent to an off-site storage location. A maximum of ten week's tapes are kept and cycled in this fashion.

RETENTION AND DISPOSAL:

Records are retained for two years following the end of the current fiscal year; then transferred to the Federal Records Center where they are destroyed by shredding when 6 years and 3 months old. Electronic records are destroyed physically (electronic storage media) or by electronic erasure.

SYSTEM MANAGER(S) AND ADDRESS:

Financial Operations Center, Associate Managing Director—Financial Operations (AMD-FO), Office of Managing Director (OMD), Federal Communications Commission (FCC), 445 12th Street, SW., Room 1-A663, Washington, DC 20554.

NOTIFICATION PROCEDURE:

Address inquiries to the system manager.

RECORD ACCESS PROCEDURES:

Address inquiries to the system manager.

CONTESTING RECORD PROCEDURE:

Address inquiries to the system manager.

RECORD SOURCE CATEGORIES:

Subject individual, agent of subject, and Attorney-at-Law of the subject individual.

EXEMPTIONS CLAIMED FOR THE SYSTEM:

None.

FCC/OMD-11

SYSTEM NAME:

Continuity of Operations Plan (COOP).

SECURITY CLASSIFICATION:

None.

SYSTEM LOCATION:

Associate Managing Director—Administrative Operations (AMD-AO), Office of Managing Director (OMD), Federal Communications Commission (FCC), 445 12th Street, SW., Washington, DC 20554.

CATEGORIES OF INDIVIDUALS COVERED BY THE SYSTEM:

Information on Federal Communications Commission (FCC) employees and contractors identified by their organizational units as a COOP Emergency Response Group (ERG) Team Member.

CATEGORIES OF RECORDS IN THE SYSTEM:

The information includes FCC employees' and contractors' names, position title, security clearance, home telephone number(s), personal cellular telephone number(s), pagers, and work and home e-mail addresses.

AUTHORITY FOR MAINTENANCE OF THE SYSTEM:

36 Code of Federal Regulations (CFR) Section 1236, Management of Vital Records, May 16, 2001; 47 47 CFR Sections 0.186 and 0.383, Emergency Relocation Board, October 1, 2000; Executive Order (EO) 12472, Assignment of National Security and Emergency Preparedness Telecommunications Functions, April 3, 1984; EO 12656, Assignment of Emergency Preparedness Responsibilities, November 18, 1988; Federal Preparedness Circular (FPC) 65, Federal Executive Branch Continuity of Operations, July 26, 1999; FPC 66, Test, Training, and Exercise (TT&E) Program and COOP, April 30, 2001; FPC 67, Acquisition for Alternate Facilities for COOP, April 30, 2001; National Security Presidential Decision Directive (NSPD) 1, Organization of the National Security Council System, February 13, 2001; Presidential Decision Directive (PDD) 67, Enduring Constitutional Government and Continuity of Government Operations, October 21, 1998; Homeland Security Presidential Directive (PD) 3, March 11, 2002;

PURPOSE(S):

This information allows FCC management to contact FCC employees and contractors at their home or other designated location; to notify him/her that the FCC COOP has been activated; and to notify them that they must report to the FCC's Alternate Operating Facility.

ROUTINE USES OF RECORDS MAINTAINED IN THE SYSTEM, INCLUDING CATEGORIES OF USERS AND THE PURPOSES OF SUCH USES:

Information about individuals in this system of records may routinely be disclosed under the following conditions:

1. Emergency Response—a record on an individual in this system of records may be disclosed to emergency medical personnel, e.g., doctors, nurses, and/or paramedics, to law enforcement officials or other first responders and emergency officials in case of a medical or other emergency involving the FCC employee without the subsequent notification to the individual identified in 5 U.S.C. 552a(b)(8);

2. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

3. Law Enforcement and Investigation—where there is an indication of a violation or potential violation of a statute, regulation, rule, or order, records from this system may be shared with appropriate Federal, State, or local authorities either for purposes of obtaining additional information relevant to an FCC decision or for referring the record for investigation, enforcement, or prosecution by another agency;

4. Congressional Inquiries—when requested by a Congressional office in response to an inquiry by an individual made to the Congressional office for their own records;

5. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act;

6. Employment, Clearances, Licensing, Contract, Grant, or other Benefits Decisions by the agency—disclosure may be made to a Federal, State, local, or foreign agency maintaining civil, criminal, or other relevant enforcement records, or other pertinent records, or to another public authority or professional organization, if necessary to obtain information relevant to an investigation concerning the retention of an employee or other personnel action (other than hiring), the retention of a security clearance, the letting of a contract, or the issuance or retention of a grant or other benefit; and

7. Labor Relations—A record from this system may be disclosed to officials of labor organizations recognized under 5 U.S.C. Chapter 71 upon receipt of a formal request and in accord with the conditions of 5 U.S.C. 7114 when relevant and necessary to their duties of exclusive representation concerning personnel policies, practices, and matters affecting working conditions.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Electronic records are maintained in a network computer database.

RETRIEVABILITY:

Records are retrieved by the employee's name, Bureau/Office, floor, and room number.

SAFEGUARDS:

Electronic records are maintained in a network computer database, which is secured through controlled access and password restricted to the COOP Manager, Associate Managing Director—Administrative Operations (AMD-AO). These records are only available for review and updating by the employees and contractors in the database, Bureau/Office administrative personnel, and FCC management on a need-to-know basis.

RETENTION AND DISPOSAL:

The retention schedule for this system of records has not yet been determined. No records will be destroyed until a disposal schedule is approved by the National Archives and Records Administration (NARA).

SYSTEM MANAGER(S) AND ADDRESS:

Associate Managing Director—Administrative Operations (AMD-AO), Office of Managing Director (OMD), Room 2-A640, Federal Communications Commission (FCC), 445 12th Street, SW., Washington, DC 20554.

NOTIFICATION PROCEDURE:

Address inquiries to the system manager.

RECORD ACCESS PROCEDURES:

Address inquiries to the system manager.

CONTESTING RECORD PROCEDURES:

Address inquiries to the system manager.

RECORD SOURCE CATEGORIES:

Individual on whom the record is maintained.

EXEMPTIONS CLAIMED FOR THE SYSTEM:

None.

FCC/OMD-12

SYSTEM NAME:

Integrated Library System (ILS) Records.

SECURITY CLASSIFICATION:

None.

SYSTEM LOCATION:

FCC Library, Office of the Secretary, Office of Managing Director (OMD), 445-12th Street, SW., Room TW-B505, Washington, DC 20554.

CATEGORIES OF INDIVIDUALS COVERED BY THE SYSTEM:

Information on current Federal Communications Commission (FCC) employees who have registered as library users.

CATEGORIES OF RECORDS IN THE SYSTEM:

Information on checked-out and/or checked-in items contained in the FCC Library collection. The records may include such information as the individual's name, organizational unit, telephone number, room number, building access badge number, library barcode identifier, and position title.

AUTHORITY FOR MAINTENANCE OF THE SYSTEM:

44 U.S.C. 3101 and 47 U.S.C. 154(I).

PURPOSE(S):

The information is maintained and used to keep track of items borrowed by registered users from the FCC Library's collection and to ensure that all items are returned to the FCC Library in a timely manner and/or upon a FCC employee's resignation from the Commission.

ROUTINE USES OF RECORDS MAINTAINED IN THE SYSTEM, INCLUDING CATEGORIES OF USERS AND THE PURPOSES OF SUCH USES:

Information about individuals in this system of records may routinely be disclosed under the following conditions:

1. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

2. Law enforcement and Investigation—where there is an indication of a violation or potential violation of a statute, regulation, rule, or order, records from this system may be shared with appropriate Federal, State, or local authorities either for purposes of obtaining additional information relevant to an FCC decision or for referring the record for investigation, enforcement, or prosecution by another agency;

3. Congressional Inquiries—when requested by a Congressional office in response to an inquiry by an individual made to the Congressional office for their own records; and

4. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Records are maintained electronically in the Integrated Library System (ILS) database. The database is password protected and updated daily.

RETRIEVABILITY:

The system records of borrowed items may be retrieved by the patron's name, bureau/office, office telephone number, room number, barcode number, and position title.

SAFEGUARDS:

Information in the Integrated Library System (ILS) is secured through controlled access and passwords restricted to administrative office personnel. Data resident on network servers are backed-up routinely onto magnetic media. Back-up tapes are stored on onsite and at an off site storage location.

RETENTION AND DISPOSAL:

The retention schedule for this system of records has not yet been determined. No records will be destroyed until a disposal schedule is approved by the National Archives and Records Administration (NARA).

SYSTEM MANAGER(S) AND ADDRESS:

Assistant Secretary, Office of the Secretary, Office of Managing Director (OMD), 445 12th Street, SW., Room TW-B505, Washington, DC 20554.

NOTIFICATION PROCEDURE:

Address inquiries to the system manager.

RECORD ACCESS PROCEDURES:

Address inquiries to the system manager.

CONTESTING RECORD PROCEDURE:

Address inquiries to the system manager.

RECORD SOURCE CATEGORIES:

FCC employees who provide contact information in order to checkout materials from the FCC library and the FCC Library collection inventory.

EXEMPTIONS CLAIMED FOR THE SYSTEM:

None.

FCC/OMD-13

SYSTEM NAME:

Data Quality Comments.

SECURITY CLASSIFICATION:

None.

SYSTEM LOCATION:

Associate Managing Director—Performance Evaluation and Records Management (AMD-PERM), Office of Managing Director (OMD), Federal Communications Commission (FCC), 445 12th Street, SW., Room 1-A838, Washington, DC 20554.

CATEGORIES OF INDIVIDUALS IN THE SYSTEM:

Members of the public who have submitted comments or questions through the Data Quality comments process.

CATEGORIES OF RECORDS IN THE SYSTEM:

Comments received through the FCC's Data Quality Comment process and, where appropriate, materials that are associated with the resolution of those comments.

AUTHORITY FOR MAINTENANCE OF THE SYSTEM:

Section 515 of the Treasury and General Government Appropriations Act for Fiscal Year 2001 (P.L. 106-554).

PURPOSE(S):

The Data Quality Act of 2001 and OMB's implementing regulations mandate that agencies develop and make public guidelines for commenting on information disseminated by that Federal agency. Further, OMB requires that Federal agencies publicly post on their Web sites the comments deemed to meet the agency standards and the resolution of those comments. This system of records maintains the comments received from the public since the inception of this requirement in FY03.

ROUTINE USES OF RECORDS MAINTAINED IN THE SYSTEM, INCLUDING CATEGORIES OF USERS AND THE PURPOSES OF SUCH USES:

Information about individuals in this system of records may routinely be disclosed under the following conditions:

1. Public access—in accordance with OMB's requirements (OMB Memorandum from John Graham, August 30, 2004, “Posting of Information Quality Correction Requests and Responses” found at http://www.whitehouse.gov/omb/inforeg/info_quality_posting_083004.pdf), the complete set of correspondence with a qualifying Data Quality commenter is available on the FCC's Data Quality Internet site at: http://www.fcc.gov/omd/dataquality/.

2. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

3. Law enforcement and Investigation—where there is an indication of a violation or potential violation of a statute, regulation, rule, or order, records from this system may be shared with appropriate Federal, State, or local authorities either for purposes of obtaining additional information relevant to a FCC decision or for referring the record for investigation, enforcement, or prosecution by another agency;

4. Congressional Inquiries—when requested by a Congressional office in response to an inquiry by an individual made to the Congressional office for their own records; and

5. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

The paper copy of comments is kept in a manila folder in a private office. The electronic copy of actual comments is posted on the FCC Web site.

RETRIEVABILITY:

Records are retrievable primarily by date of submittal. Under this hierarchy, records are retrievable by name of individual requester.

SAFEGUARDS:

Paper records are kept in a private office that is locked at the end of the day. Electronic records are posted on the FCC web site, and thus, are publicly available.

RETENTION AND DISPOSAL:

The retention schedule for this system of records has not yet been determined. No records will be destroyed until a disposal schedule is approved by the National Archives and Records Administration (NARA).

SYSTEM MANAGER(S) AND ADDRESS:

Associate Managing Director—Performance Evaluation and Records Management (AMD-PERM), Office of Managing Director (OMD), Federal Communications Commission (FCC), 445 12th Street, SW., Room 1-A838, Washington, DC 20554.

NOTIFICATION PROCEDURE:

Address inquiries to the system manager.

RECORD ACCESS PROCEDURES:

Address inquiries to the system manager.

CONTESTING RECORD PROCEDURES:

Address inquiries to the system manager.

RECORD SOURCE CATEGORIES:

Data Quality comments submitted by members of the public; correspondence involved in resolving comments; and annual reports to OMB.

EXEMPTIONS CLAIMED FOR THE SYSTEM:

None.

FCC/OMD-14

SYSTEM NAME:

Pay and Leave Records.

SECURITY CLASSIFICATION:

None.

SYSTEM LOCATION:

Human Resources Manager (HRM), Office of Managing Director (OMD), Federal Communications Commission (FCC), 445 12th Street, SW., Room 1-B104, Washington, DC 20554.

CATEGORIES OF INDIVIDUALS COVERED BY THE SYSTEM:

Employees of the Federal Communications Commission (FCC).

CATEGORIES OF RECORDS IN THE SYSTEM:

This system contains various records, including Social Security Numbers, which are required to administer the pay and leave requirements of the FCC.

AUTHORITY FOR MAINTENANCE OF THE SYSTEM:

44 U.S.C. 3101 and 3102; 5 U.S.C. 6331-6340; Federal Employees Leave Sharing Act of 1988 and Amendments of 1993 (P.L. 103-103 and P.L. 100-566); Executive Order 9397, November 22, 1943; and Personal Responsibility and Work Opportunity Reconciliation Act of 1996 (P.L. 104-193).

PURPOSE(S):

The records within this system are used to:

1. Authorize payroll deductions for allotments, savings bonds, charitable contributions, union dues;

2. Collect indebtedness for overpayment of salary and unpaid Internal Revenue Service taxes;

3. Pay income tax obligations to the Internal Revenue Service;

4. Authorize issuing of salary checks by the Treasury Department;

5. Report gross wages and separation information for unemployment compensation;

6. Pay any uncollected compensation due to the beneficiaries of a deceased employee;

7. Determine eligibility for and/or authorize donations for the leave transfer program;

8. Produce summary descriptive statistics and analytical studies in support of the FCC's Human Resource Management functions;

9. Respond to general requests for statistical information (without personal identification of individuals) under the Freedom of Information Act; and

10. Locate specific individuals for Human Resource Management functions.

ROUTINE USES OF RECORDS MAINTAINED IN THE SYSTEM, INCLUDING CATEGORIES OF USERS AND THE PURPOSES OF SUCH USES:

Information about individuals in this system of records may routinely be disclosed under the following conditions:

1. Compliance with Welfare Reform requirements—Names, Social Security Numbers, home addresses, dates of birth, dates of hire, quarterly earnings, employer identifying information, and state of hire of employees may be disclosed to the Office of Child Support Enforcement, Administration for Children and Families, Department of Health and Human Services for the purposes of locating individuals to establish paternity, establishing and modifying orders of child support, identifying sources of income, and for other child support enforcement actions as required by the Personal Responsibility and Work Opportunity Reconciliation Act;

2. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

3. Law enforcement and Investigation—where there is an indication of a violation or potential violation of a statute, regulation, rule, or order, records from this system may be shared with appropriate Federal, State, or local authorities either for purposes of obtaining additional information relevant to a FCC decision or for referring the record for investigation, enforcement, or prosecution by another agency;

4. Congressional Inquiries—when requested by a Congressional office in response to an inquiry by an individual made to the Congressional office for their own records;

5. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

6. Employment, Clearances, Licensing, Contract, Grant, or other Benefits Decisions by the agency—disclosure may be made to a Federal, State, local or foreign agency maintaining civil, criminal, or other relevant enforcement records, or other pertinent records, or to another public authority or professional organization, if necessary to obtain information relevant to an investigation concerning the retention of an employee or other personnel action (other than hiring), the retention of a security clearance, the letting of a contract, or the issuance or retention of a grant or other benefit;

7. Employment, Clearances, Licensing, Contract, Grant, or other Benefits Decisions by other than the agency—disclosure may be made to a Federal, State, local, foreign, tribal, or other public authority of the fact that this system of records contains information relevant to the retention of an employee, the retention of a security clearance, the letting of a contract, or the issuance or retention of a license, grant, or other benefit. The other agency or licensing organization may then make a request supported by the written consent of the individual for the entire records if it so chooses. No disclosure will be made unless the information has been determined to be sufficiently reliable to support a referral to another office within the agency or to another Federal agency for criminal, civil, administrative, personnel, or regulatory action; and

8. Labor Relations—A record from this system may be disclosed to officials of labor organizations recognized under 5 U.S.C. Chapter 71 upon receipt of a formal request and in accord with the conditions of 5 U.S.C. 7114 when relevant and necessary to their duties of exclusive representation concerning personnel policies, practices, and matters affecting working conditions.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Information includes paper records that are maintained in file folders and electronic data that are stored on the FCC's network computer database.

RETRIEVABILITY:

Records are indexed by name and Social Security Number.

SAFEGUARDS:

Records are maintained in filing cabinets that are secured at the end of each business day and/or on computer systems that are protected through password access. Both types of records are available only to authorized personnel whose duties require access.

RETENTION AND DISPOSAL:

Records kept by the FCC are maintained and disposed of in accordance with General Records Schedule 2 (GRS 2) issued by the National Archives and Records Administration (NARA). Under this Schedule, records are kept from 3 to 56 years, depending on the type of record involved. Paper records are disposed by shredding and electronic records are destroyed physically (electronic storage media) or by electronic erasure. Individuals may request a copy of the disposition instructions from the FCC Privacy Act Officer or access GRS 2 directly at http://www.archives.gov/records-mgmt/ardor/grs02.html.

SYSTEM MANAGER(S) AND ADDRESS:

Associate Managing Director—Human Resources Management (AMD-HRM), Office of the Managing Director (OMD), Federal Communications Commission (FCC), 445 12th Street, SW., Room 1-B104, Washington, DC 20554.

NOTIFICATION PROCEDURE:

Address inquiries to the system manager.

RECORD ACCESS PROCEDURES:

Address inquiries to the system manager.

CONTESTING RECORD PROCEDURES:

Address inquiries to the system manager.

RECORD SOURCE CATEGORIES:

Subject employees and FCC managers.

EXEMPTIONS CLAIMED FOR THE SYSTEM:

None.

FCC/OMD-15

SYSTEM NAME:

Employee Locator System.

SECURITY CLASSIFICATION:

None.

SYSTEM LOCATION:

Assistant Managing Director—Human Resources Management (AMD-HRM), Office of the Managing Director (OMD), Federal Communications Commission (FCC), 445 12th Street, SW., Room 1-A100, Washington, DC 20554.

CATEGORIES OF INDIVIDUALS COVERED BY THE SYSTEM:

Employees of the Federal Communications Commission (FCC) and the persons they list as their “emergency contacts.”

CATEGORIES OF RECORDS IN THE SYSTEM:

The information includes:

1. The names of FCC employees along with contact information on their organizational unit, physical location (floor, room number), and work telephone number(s); and

2. The name(s), e-mail address(es), and telephone number(s) of the individual(s) to contact in the event of a medical or other emergency involving the FCC employee.

AUTHORITY FOR MAINTENANCE OF THE SYSTEM:

Homeland Security Act of 2002 (P.L. 107-296, 2002); Executive Order (EO) 12656, Assignment of Emergency Preparedness Responsibilities, November 18, 1988; and Presidential Decision Directive 67, Enduring Constitutional Government and Continuity of Government Operations, October 21, 1998.

PURPOSE(S):

The information serves to identify the individual(s) to contact should an emergency of a medical or other nature involving the Commission employee occur while the employee is on the job.

ROUTINE USES OF RECORDS MAINTAINED IN THE SYSTEM, INCLUDING CATEGORIES OF USERS AND THE PURPOSES OF SUCH USES:

Information about individuals in this system of records may routinely be disclosed under the following conditions:

1. Emergency Response—A record on an individual in this system of records may be disclosed to emergency medical personnel, e.g., doctors, nurses, and/or paramedics, or to law enforcement officials in case of a medical or other emergency involving the FCC employee without the subsequent notification to the individual identified in 5 U.S.C. 552a(b)(8);

2. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

3. Law Enforcement and Investigation—where there is an indication of a violation or potential violation of a statute, regulation, rule, or order, records from this system may be shared with appropriate Federal, State, or local authorities either for purposes of obtaining additional information relevant to a FCC decision or for referring the record for investigation, enforcement, or prosecution by another agency;

4. Congressional Inquiries—when requested by a Congressional office in response to an inquiry by an individual made to the Congressional office for their own records; and

5. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Electronic records are maintained in a network computer database.

RETRIEVABILITY:

Records are retrieved by the employee's name, organizational unit, floor, and room number.

SAFEGUARDS:

Electronic records are maintained in a network computer database, which is secured through controlled access and passwords restricted to the employee, Human Resources Management employees, administrative personnel, and emergency relocation site employees.

RETENTION AND DISPOSAL:

Records kept by the FCC are maintained and disposed of in accordance with General Records Schedule 1 issued by the National Archives and Records Administration (NARA). Under terms of this Schedule, records are destroyed on separation or transfer of the employee by means of shredding. Electronic records are destroyed physically (electronic storage media) or by electronic erasure. Individuals may request a copy of the disposition instructions from the FCC Privacy Act Officer or access this Schedule at http://www.archives.gov/records-mgmt/ardor/grs01.html.

SYSTEM MANAGER(S) AND ADDRESS:

Associate Managing Director—Human Resources Management (AMD-HRM), Office of the Managing Director (OMD), Federal Communications Commission (FCC), 445 12th Street, SW., Room 1-A100, Washington, DC 20554.

NOTIFICATION PROCEDURE:

Address inquiries to the system manager.

RECORD ACCESS PROCEDURES:

Address inquiries to the system manager.

CONTESTING RECORD PROCEDURES:

Address inquiries to the system manager.

RECORD SOURCE CATEGORIES:

Subject employees.

EXEMPTIONS CLAIMED FOR THE SYSTEM:

None.

FCC/OMD-16

SYSTEM NAME:

Personnel Investigation Records.

SECURITY CLASSIFICATION:

There is no specific security classification for this system; however, data or records within the system may have national defense/foreign policy classifications up through secret.

SYSTEM LOCATION:

Security Operations Center, Assistant Managing Director—Administrative Offices (AMD-AO), Office of Managing Director (OMD), Federal Communications Commission (FCC), 445 12th Street, SW., Room 1-B458, Washington, DC 20554.

CATEGORIES OF INDIVIDUALS COVERED BY THE SYSTEM:

Information includes:

1. Current and former Federal Communications Commission (FCC) employees, applicants for employment in the Federal service, and contractors of the FCC;

2. Individuals considered for access to classified information or restricted areas and/or security determinations such as contractors, experts, instructors, and consultants to Federal programs; and

3. Individuals who are neither applicants nor employees of the Federal Government, but who are or were involved in Federal programs under a co-operative agreement.

CATEGORIES OF RECORDS IN THE SYSTEM:

Information includes:

1. Data needed to identify an individual and his/her security clearance, including: individual's last, first, and middle names (filed alphabetically by last name); Social Security Number; date of birth; place of birth; organizational unit; position title; security classification; types and dates of investigations; agency conducting investigation, investigation dates, clearance level granted, and position sensitivity level; and remarks;

2. Data needed to investigate an individual's character, conduct, and behavior in the community where he or she lives or lived; arrests and convictions for violations against the law; reports of interviews with present and former supervisors, co-workers, associates, educators, etc;

3. Reports about the individual's qualifications for a position; reports of inquiries with law enforcement agencies, employers, and educational institutions attended; reports of action after the Office of Personnel Management (OPM) or FBI Section 8(d) Full Field Investigation; Notices of Security Investigation and other information developed from the above described Certificates of Clearance;

4. In some instances, a photograph of the subject;

5. Data needed to investigate allegations of misconduct by an FCC employee;

6. Data needed to investigate miscellaneous complaints not covered by the FCC's formal or informal grievance procedure;

7. Data needed to conduct inquiries under the “President's Program to Eliminate Waste and Fraud in Government;” and

8. Data needed to investigate violence, threats, harassment, intimidation, or other inappropriate behavior that causes an FCC employee or contractor to fear for his/her personal safety in the FCC workplace: case number, victim's name, office telephone number, room number, organizational unit, duty station, position, supervisor, supervisor's telephone number, location of incident, activity at time of incident, circumstances surrounding the incident, perpetrator, name(s) and telephone number(s) of witness(es), injured party(s), medical treatment(s), medical report, property damages, report(s) to police and/or Federal Protective Services, and other miscellaneous information.

AUTHORITY FOR MAINTENANCE OF THE SYSTEM:

5 U.S.C. 1303, 1304, 3301, 7902; Executive Orders 9397, 12196, 12674, and 12356; and Homeland Security Presidential Directive 12.

PURPOSE(S):

FCC Security Officer and the Personnel Security Specialist use this information as follows:

1. To determine compliance with Federal regulations and/or to make a determination about an individual's suitability and fitness for Federal employment, access to classified information or restricted areas, position sensitivity, security clearances, evaluations of qualifications, and loyalty to the U.S.;

2. To evaluate qualifications and suitability to perform contractual services for the U.S. Government and to document such determinations;

3. To respond to a written inquiry conducted under the “President's Program to Eliminate Waste and Fraud in the Government;” and

4. To take action on, or to respond to a complaint about a threat, harassment, intimidation, violence, or other inappropriate behavior involving one or more FCC employees and/or contract employees, and to counsel employees.

ROUTINE USES OF RECORDS MAINTAINED IN THE SYSTEM, INCLUDING CATEGORIES OF USERS AND THE PURPOSES OF SUCH USES:

Information about individuals in this system of records may routinely be disclosed under the following conditions:

1. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

2. Law Enforcement and Investigation—where there is an indication of a violation or potential violation of a statute, regulation, rule, or order, records from this system may be shared with appropriate Federal, State, or local authorities either for purposes of obtaining additional information relevant to a FCC decision or for referring the record for investigation, enforcement, or prosecution by another agency;

3. Congressional Inquiries—when requested by a Congressional office in response to an inquiry by an individual made to the Congressional office for their own records;

4. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act;

5. Employment, Clearances, Licensing, Contract, Grant, or other Benefits Decisions by the agency—disclosure may be made to a Federal, State, local, or foreign agency maintaining civil, criminal, or other relevant enforcement records, or other pertinent records, or to another public authority or professional organization, if necessary to obtain information relevant to an investigation concerning the retention of an employee or other personnel action (other than hiring), the retention of a security clearance, the letting of a contract, or the issuance or retention of a grant or other benefit;

6. Employment, Clearances, Licensing, Contract, Grant, or other Benefits Decisions by other than the agency—disclosure may be made to a Federal, State, local, foreign, tribal, or other public authority of the fact that this system of records contains information relevant to the retention of an employee, the retention of a security clearance, the letting of a contract, or the issuance or retention of a license, grant, or other benefit. The other agency or licensing organization may then make a request supported by the written consent of the individual for the entire records if it so chooses. No disclosure will be made unless the information has been determined to be sufficiently reliable to support a referral to another office within the agency or to another Federal agency for criminal, civil, administrative, personnel, or regulatory action; and

7. Labor Relations—A record from this system may be disclosed to officials of labor organizations recognized under 5 U.S.C. Chapter 71 upon receipt of a formal request and in accord with the conditions of 5 U.S.C. 7114 when relevant and necessary to their duties of exclusive representation concerning personnel policies, practices, and matters affecting working conditions.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Information includes paper records that are stored in file folders in security containers, and electronic records that are maintained in a stand-alone computer database.

RETRIEVABILITY:

Records are retrieved by an individual's name and Social Security Number.

SAFEGUARDS:

Paper records are maintained in file folders and stored in approved security containers, within a secure, access-controlled area. Access is limited to approved security office and administrative personnel. The electronic records are maintained in a stand-alone computer database, which is secured through controlled access and passwords restricted to security and administrative personnel on a “need to know” basis. The computers are located in a room with a simplex lock and intrusive alarm systems. The computer databases are maintained on a computer that is not connected to the FCC computer network. The databases are backed-up on a daily basis to floppy disk(s), which are then stored in a secured area.

RETENTION AND DISPOSAL:

Both paper and electronic records are retained during employment or while an individual is actively involved in Federal programs. As appropriate, records are returned to investigating agencies after employment terminates; otherwise, the records are retained for five years from the date that the employee leaves the Commission. Investigative files and the computer database, which show the completion of an investigation, are retained for 15 years, except for investigations involving potential actionable issue(s), which will be maintained for 25 years plus the current year from the date of the most recent investigative activity. Paper records are destroyed by shredding. Electronic records are destroyed by electronic erasure. Individuals interested in further information about retention and disposal may request a copy of the disposition instructions from the FCC Privacy Act Officer.

SYSTEM MANAGER(S) AND ADDRESS:

Security Office, Associate Managing Director—Administrative Operations (AMD-AO), Security Operations Center, Office of the Managing Director, Federal Communications Commission (FCC), 445 12th Street, SW., Room 1-B458, Washington, DC 20554.

NOTIFICATION PROCEDURE:

Under the authority granted to heads of agencies by 5 U.S.C. 552a(k), the FCC has determined (47 CFR 0.561) that this system of records is exempt from disclosing its notification procedure for this system of records.

RECORD ACCESS PROCEDURES:

Under the authority granted to heads of agencies by 5 U.S.C. 552a(k), the FCC has determined (47 CFR 0.561) that this system of records is exempt from disclosing its record access procedures for this system of records.

CONTESTING RECORD PROCEDURE:

Under the authority granted to heads of agencies by 5 U.S.C. 552a(k), the FCC has determined (47 CFR 0.561) that this system of records is exempt from disclosing its contesting record procedure for this system of records.

RECORD SOURCE CATEGORIES:

Under the authority granted to heads of agencies by 5 U.S.C. 552a(k), the FCC has determined (47 CFR 0.561) that this system of records is exempt from disclosing its record sources for this system of records.

EXEMPTION FROM CERTAIN PROVISIONS OF THE ACT:

This system of records is exempt from sections (c)(3), (d), (e)(4)(G), (H), and (I), and (f) of the Privacy Act of 1974, 5 U.S.C. 552a, and from 47 CFR 0.554-0.557 of the Commission's rules. These provisions concern the notification, record access, and contesting procedures described above, and also the publication of record sources. The system is exempt from these provisions because it contains the following types of information:

1. Investigative material compiled for law enforcement purposes as defined in Section (k)(2) of the Privacy Act;

2. Properly classified information, obtained from another Federal agency during the course of a personnel investigation, which pertains to national defense and foreign policy, as stated in Section (k)(1) of the Privacy Act; and

3. Investigative material compiled solely for the purpose of determining suitability, eligibility, or qualifications for Federal civilian employment, as described in Section (k)(5) of the Privacy Act, as amended.

FCC/OMD-17

SYSTEM NAME:

Freedom of Information Act (FOIA) Case Files.

SECURITY CLASSIFICATION:

None.

SYSTEM LOCATION:

FOIA Public Liaison, Office of Managing Director (OMD), Federal Communications Commission (FCC), 445 12th Street, SW., Room 1-C, Washington, DC.

CATEGORIES OF INDIVIDUALS COVERED BY THE SYSTEM:

Individuals who have requested access to inspect and/or copy records of the Commission under provisions of the FOIA.

CATEGORIES OF RECORDS IN THE SYSTEM:

Records in this system include names, addresses, the information requested under FOIA, and communications between the Federal Communications Commission (FCC) and the individual who makes the FOIA request (“requester”).

AUTHORITY FOR MAINTENANCE OF THE SYSTEM:

Freedom of Information Act (1994 and Supp. II 1996), 5 U.S.C. 552, Executive Order (EO) 13392.

PURPOSE(S):

These records are collected and maintained so that the FCC can effectively, efficiently, responsively, and appropriately respond to FOIA requests. These records are also crucial for adjudication of FOIA appeals and for providing mandatory statistical reports to Congress, the Department of Justice, and the Office of Management and Budget. These records also advise Commission decisions on what records should be routinely made public and thus available with FOIA requests.

ROUTINE USES OF RECORDS MAINTAINED IN THE SYSTEM, INCLUDING CATEGORIES OF USERS AND THE PURPOSES OF SUCH USES:

Information about individuals in this system of records may routinely be disclosed under the following conditions:

1. Public access—where the appropriate official of the Commission, pursuant to the Commission's FOIA Regulations determines that it is in the public interest to disclose a record, which is otherwise exempt from mandatory disclosure, disclosure may be made from the system of records.

2. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

3. Law enforcement and Investigation—where there is an indication of a violation or potential violation of a statute, regulation, rule, or order, records from this system may be shared with appropriate Federal, State, or local authorities either for purposes of obtaining additional information relevant to a FCC decision or for referring the record for investigation, enforcement, or prosecution by another agency;

4. Congressional Inquiries—when requested by a Congressional office in response to an inquiry by an individual made to the Congressional office for their own records; and

5. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Information includes both paper files and electronic data. The information is maintained in case files and in databases located in both the FOIA Officer's organizational unit and the organizational units of the FCC staff providing the substantive answer to the request.

RETRIEVABILITY:

Records are primarily indexed and retrieved by the FOIA control number assigned to each requester. In addition, records can be retrieved by name of requester, date of request, subject of request, and type of request.

SAFEGUARDS:

Paper records are maintained in file cabinets located in the organizational unit of those involved in responding to the FOIA request. Electronic records and databases are secured through controlled access and passwords, which is restricted to approved personnel in the bureaus and offices.

RETENTION AND DISPOSAL:

Individual case files are maintained for two years after the date of reply. Denied requests and appeals of denials may be retained for longer periods (up to six years after final action) in accordance with FOIA and FCC records control schedules. Individuals may request a copy of the disposition instructions from the FCC Privacy Act Officer.

SYSTEM MANAGER(S) AND ADDRESS:

FOIA Public Liaison, Office of Managing Director (OMD), Federal Communications Commission (FCC), 445 12th Street, SW., Room 1-A827, Washington, DC 20554.

NOTIFICATION PROCEDURE:

Address inquiries to the system manager.

RECORD ACCESS PROCEDURES:

Address inquiries to the system manager.

CONTESTING RECORD PROCEDURES:

Address inquiries to the system manager.

RECORD SOURCE CATEGORIES:

Individuals making requests under FOIA; communication between FCC organizational units and the requester; and investigative materials and decisions involved in appeals of FOIA responses.

EXEMPTIONS CLAIMED FOR THE SYSTEM:

None.

FCC/OMD-18

SYSTEM NAME:

Telephone Call Detail.

SECURITY CLASSIFICATION:

None.

SYSTEM LOCATION:

Information Technology Center, Associate Managing Director—Information Technology (AMD-IT), Office of the Managing Director (OMD), Federal Communications Commission (FCC), 445 12th Street, SW., Room 1-C361, Washington, DC 20554.

CATEGORIES OF INDIVIDUALS COVERED BY THE SYSTEM:

Information includes the following:

1. Individuals, including current and former employees, contractors, and visitors, who originate calls from Federal Communications Commission (FCC) telephones, including both wireline and cellular telephones, and individuals receiving such calls;

2. Individuals placing calls to or charging calls to FCC telephones (wired or cellular);

3. Individuals receiving such calls, or accepting the charges; and

4. Employees assigned FCC telephone numbers from both wireline and cellular telephones.

CATEGORIES OF RECORDS IN THE SYSTEM:

Records in the system include:

1. Records of telephone calls placed to and from FCC phones (wired or cellular);

2. Telephone numbers, including both wireline and cellular telephones, assigned to current employees;

3. The physical location of FCC telephones, including both wireline and cellular telephones;

4. Numbers called from, the numbers called to, time and date of calls, duration, disposition, and the cost of the call and/or charges accepted, and the FCC organizational unit to which the relevant telephone numbers are assigned;

5. Copies of related records, e.g., any periodic summaries which may have been compiled to reflect the total number of long distance calls; and

6. Names of employees and their office locations, but no other personal identifiers such as social security numbers.

AUTHORITY FOR MAINTENANCE OF THE SYSTEM:

44 U.S.C. 3101 and 47 U.S.C. 154(I).

PURPOSE(S):

Information is collected so that the FCC can meet its statutory and regulatory duties to ensure that government property is used only for allowed purposes and to ensure that the FCC operates efficiently and effectively.

ROUTINE USES OF RECORDS MAINTAINED IN THE SYSTEM, INCLUDING CATEGORIES OF USERS AND THE PURPOSES OF SUCH USES:

Information about individuals in this system of records may routinely be disclosed under the following conditions:

1. Financial obligations as required by the National Finance Center et al.—when the National Finance Center (the FCC's designated payroll office), the Department of the Treasury Debt Management Services, and/or a current employer to effect a salary, IRS tax refund, or administrative offset to satisfy an indebtedness incurred for unofficial telephone and cellular calls; and to Federal agencies to identify and locate former employees for the purposes of collecting such indebtedness, including through administrative, salary, or tax refund offsets. Identifying and locating former employees, and the subsequent referral to such agencies for offset purposes, may be accomplished through authorized computer matching programs. Disclosures will be made only when all procedural steps established by the Debt Collection Act of 1982 and the Debt Collection Improvement Act of 1996 or the Computer Matching and Privacy Protection Act of 1988 as appropriate, have been taken;

2. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

3. Law Enforcement and Investigation—where there is an indication of a violation or potential violation of a statute, regulation, rule, or order, records from this system may be shared with appropriate Federal, State, or local authorities either for purposes of obtaining additional information relevant to a FCC decision or for referring the record for investigation, enforcement, or prosecution by another agency;

4. Congressional Inquiries—when requested by a Congressional office in response to an inquiry by an individual made to the Congressional office for their own records;

5. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act;

6. Employment, Clearances, Licensing, Contract, Grant, or other Benefits Decisions by the agency—disclosure may be made to a Federal, State, local, or foreign agency maintaining civil, criminal, or other relevant enforcement records, or other pertinent records, or to another public authority or professional organization, if necessary to obtain information relevant to an investigation concerning the retention of an employee or other personnel action (other than hiring), the retention of a security clearance, the letting of a contract, or the issuance or retention of a grant or other benefit;

7. Employment, Clearances, Licensing, Contract, Grant, or other Benefits Decisions by other than the agency—disclosure may be made to a Federal, State, local, foreign, or tribal or other public authority of the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative, personnel, or regulatory action; and

8. Labor Relations—A record from this system may be disclosed to officials of labor organizations recognized under 5 U.S.C. Chapter 71 upon receipt of a formal request and in accord with the conditions of 5 U.S.C. 7114 when relevant and necessary to their duties of exclusive representation concerning personnel policies, practices, and matters affecting working conditions.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Records are maintained in electronic databases, in paper files, and on CD-ROM. The electronic databases are password protected and updated daily.

RETRIEVABILITY:

Telephone call records are retrieved by organizational unit, the employee name, name of recipient of telephone call, and the telephone number.

SAFEGUARDS:

Paper and CD-ROM records are maintained in file cabinets, which are locked at the end of the business day. Information in the electronic databases is secured through controlled access and passwords restricted to administrative office personnel. Data resident on network servers are backed-up daily to magnetic media. Back-up tapes are stored on-site and at an off-site storage location.

RETENTION AND DISPOSAL:

Records kept by the FCC are maintained and disposed of in accordance with General Records Schedule 12 issued by the National Archives and Records Administration (NARA). Disposition is done by shredding when records are from 6 months to 3 years old, depending on the Schedule. Electronic records are destroyed physically (electronic storage media) or by electronic erasure. Individuals may request a copy of the disposition instructions from the FCC Privacy Act Officer or directly access the Schedule at http://www.archives.gov/records-mgmt/ardor/grs12.html.

SYSTEM MANAGER(S) AND ADDRESS:

Information Technology Center, Associate Managing Director—Information Technology (AMD-IT), Office of the Managing Director (OMD), Federal Communications Commission (FCC), 445 12th Street, SW., Room 1-C361, Washington, DC 20554.

NOTIFICATION PROCEDURE:

Address inquiries to the system manager.

RECORD ACCESS PROCEDURES:

Address inquiries to the system manager.

CONTESTING RECORD PROCEDURES:

Address inquiries to the system manager.

RECORD SOURCE CATEGORIES:

Telephone assignment records; call detail listings; and the results of administrative inquiries relating to assignment of responsibility for placement of specific long distance calls.

EXEMPTIONS CLAIMED FOR THE SYSTEM:

None.

FCC/OMD-19

SYSTEM NAME:

Denial of Federal Benefits (Drug Debarment List).

SECURITY CLASSIFICATION:

None.

SYSTEM LOCATION:

Financial Operations Center, Associate Managing Director—Financial Operations (AMD-FO), Office of Managing Director (OMD), Federal Communications Commission (FCC), 445 12th Street, SW., Room 1-A663, Washington, DC 20554.

CATEGORIES OF INDIVIDUALS COVERED BY THE SYSTEM:

Individuals convicted of offenses concerning the distribution or possession of controlled substances, who have been denied all Federal benefits or Federal Communications Commission (FCC) benefits as part of their sentence pursuant to Section 5301 of the Anti-Drug Abuse Act of 1988, and who have also filed applications for any FCC professional or commercial license.

CATEGORIES OF RECORDS IN THE SYSTEM:

The records within this system come from a database of individuals who have been denied all Federal benefits pursuant to Section 5301 of the Anti-Drug Abuse Act of 1988. This database is provided to the FCC by the Department of Justice (DOJ). These records include:

1. DOJ identification number (ID) for the person denied Federal benefits;

2. Name of individual;

3. Individual Taxpayer Identification Number (ITIN); and

4. Starting and ending date of the denial of Federal benefits.

All other data elements in the database are immediately discarded by the FCC.

When there is a preliminary match of name and ITIN from the database with the name of an application on file with the FCC, the FCC will then obtain from DOJ additional data elements, e.g., address, zip code, and, if required by the FCC application, date of birth, in order to determine if there is an actual match.

If manual comparison of the application information with the information obtained from DOJ confirms an actual match, the FCC will prepare a confirmation report to be attached to the application. The confirmation report will reflect the identifying information obtained from the DOJ debarment entry, but it will not include the DOJ ID number for that debarment entry.

Upon such a match, the FCC will initiate correspondence with the applicant, which will also be associated with the application. The confirmation report and any correspondence with the applicant will be among the records found in this system.

AUTHORITY FOR MAINTENANCE OF THE SYSTEM:

Section 5301 of the Anti-Drug Abuse Act of 1988 (P.L. 100-690), as amended by section 1002(d) of the Crime Control Act of 1990 (P.L. 101-647), and 47 U.S.C. 154(i) and 154(j).

PURPOSE(S):

Information is used for the exchange of information between DOJ and the FCC in connection with the implementation of section 5301 of the Anti-Drug Abuse Act of 1988. This exchange of information permits the FCC to perform the General Services Administration (GSA) Debarment List check as provided for in the Office of National Drug Control Policy plan for implementation of section 5301 through use of information generated by DOJ. The automated records obtained from DOJ is only used by the FCC to make an initial determination of whether an individual applicant is subject to a denial of all Federal benefits or FCC benefits imposed under section 5301 of the Anti-Drug Abuse Act of 1988.

ROUTINE USES OF RECORDS MAINTAINED IN THE SYSTEM, INCLUDING CATEGORIES OF USERS AND THE PURPOSES OF SUCH USES:

Information about individuals in this system of records may routinely be disclosed under the following conditions:

1. Public Access—any report resulting from a confirmed match between a FCC applicant and an individual on the DOJ Drug Disbarment List (not including the DOJ ID Number) and any correspondence with the applicant regarding this match will be associated with the applicant's application and thus, will be made routinely available (with redactions for date of birth and Social Security Number) for public inspection as part of the FCC application file;

2. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

3. Law enforcement and Investigation—where there is an indication of a violation or potential violation of a statute, regulation, rule, or order, records from this system may be shared with appropriate Federal, State, or local authorities either for purposes of obtaining additional information relevant to a FCC decision or for referring the record for investigation, enforcement, or prosecution by another agency;

4. Congressional Inquiries—when requested by a Congressional office in response to an inquiry by an individual made to the Congressional office for their own records; and

5. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Records are maintained electronically on a computer database, and a paper copy of each record is stored in file folders.

RETRIEVABILITY:

Records are retrieved by supplying the following information: Name of applicant, ITIN, address (in some instances) and zip code, date of birth (in some instances), and FCC fee control number for the application.

SAFEGUARDS:

The data are provided to the FCC by the U.S. Department of Justice (DOJ) and will be protected from tampering, unauthorized disclosure, and will follow these procedures:

1. The database will be processed to extract the information to be used in the automated system, and the data elements not being used in the automated system will be electronically erased.

2. The remaining data will be maintained at the main FCC building with a low risk of unauthorized access.

3. Access points are photo-monitored by security personnel; all employees are required to display photo ID badges; and all visitors must register and wear a visitor's badge.

4. Access to the computer system on which the extracted database is stored requires use of a unique user ID with personal identifier.

5. The extracted database is stored in a separate file in that system, and a separate password is required for entry to that file.

6. The password is available to a limited number of persons based strictly on a “need to know” basis.

7. The reports of any automated matches containing the DOJ ID number will be made available only to the appropriate FCC officials.

RETENTION AND DISPOSAL:

The match reports are retained by the FCC for only as long as it is necessary to obtain the debarment entry information and corresponding application for manual confirmation of the match. Thereafter, the match reports will be shredded.

However, periodically, a match report will be randomly retained for a period of an additional 90 to 120 days to provide a quality check of the verification process. Where the verification process establishes that a match does not indicate that the applicant has been denied Federal benefits under section 5301, the debarment entry information used in that determination will be retained by the FCC for 30 days after the application has cleared the debarment check. However, as noted above, debarment entry information relating to match reports that are retained for quality control purposes will be retained until that quality check is completed.

Where a match is confirmed by the manual verification process, the debarment entry information will be retained for a period of at least 90 days after the date of the letter referred to above. If the individual applicant contests the determination that a section 5301 denial of Federal benefits bars a grant of the application, the debarment entry information will be retained until such time as the FCC's action on the application is no longer subject to review in any court.

Individuals may request a copy of the disposition instructions from the FCC Privacy Act Officer.

SYSTEM MANAGER(S) AND ADDRESS:

Associate Managing Director—Financial Operations (AMD-FO), Office of Managing Director (OMD), Federal Communications Commission (FCC), 445 12th Street, SW., Room 1-A623, Washington, DC 20554.

NOTIFICATION PROCEDURE:

Address inquiries to the system manager.

RECORD ACCESS PROCEDURES:

Address inquiries to the system manager.

CONTESTING RECORD PROCEDURE:

Address inquiries to the system manager.

RECORD SOURCE CATEGORIES:

DOJ Drug Disbarment Database; and individuals making applications to the FCC who have been matched with the Drug Disbarment Database.

EXEMPTIONS CLAIMED FOR THE SYSTEM:

None.

FCC/OMD-20

SYSTEM NAME:

Inter-office and Remote Access Internet E-mail Systems.

SECURITY CLASSIFICATION:

None.

SYSTEM LOCATION:

Information Technology Center, Associate Managing Director—Information Technology (AMD-IT), Office of the Managing Director (OMD), Federal Communications Commission (FCC), 445 12th Street, SW., Room 1-C266, Washington, DC 20554.

CATEGORIES OF INDIVIDUALS COVERED BY THE SYSTEM:

Employees and contractors of the Federal Communications Commission (FCC).

CATEGORIES OF RECORDS IN THE SYSTEM:

Information includes the names, e-mail addresses, passwords, and badge numbers of all FCC employees and contractors.

AUTHORITY FOR MAINTENANCE OF THE SYSTEM:

47 U.S.C. 154(i).

PURPOSE(S):

These records are used to insure that all users of the FCC's Inter-office and Internet E-mail systems abide by the FCC's Intranet and Internet regulations. The records can also be used to identify possible abusers.

ROUTINE USES OF RECORDS MAINTAINED IN THE SYSTEM, INCLUDING CATEGORIES OF USERS AND THE PURPOSES OF SUCH USES:

Information about individuals in this system of records may routinely be disclosed under the following conditions:

1. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

2. Law enforcement and Investigation—where there is an indication of a violation or potential violation of a statute, regulation, rule, or order, records from this system may be shared with appropriate Federal, State, or local authorities either for purposes of obtaining additional information relevant to a FCC decision or for referring the record for investigation, enforcement, or prosecution by another agency;

3. Congressional Inquiries—when requested by a Congressional office in response to an inquiry by an individual made to the Congressional office for their own records;

4. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act;

5. Employment, Clearances, Licensing, Contract, Grant, or other Benefits Decisions by the agency—disclosure may be made to a Federal, State, local, or foreign agency maintaining civil, criminal, or other relevant enforcement records, or other pertinent records, or to another public authority or professional organization, if necessary to obtain information relevant to an investigation concerning the retention of an employee or other personnel action (other than hiring), the retention of a security clearance, the letting of a contract, or the issuance or retention of a grant or other benefit;

6. Employment, Clearances, Licensing, Contract, Grant, or other Benefits Decisions by other than the agency—disclosure may be made to a Federal, State, local, foreign, tribal or other public authority of the fact that this system of records contains information relevant to the retention of an employee, the retention of a security clearance, the letting of a contract, or the issuance or retention of a license, grant, or other benefit. The other agency or licensing organization may then make a request supported by the written consent of the individual for the entire records if it so chooses. No disclosure will be made unless the information has been determined to be sufficiently reliable to support a referral to another office within the agency or to another Federal agency for criminal, civil, administrative, personnel, or regulatory action; and

7. Labor Relations—A record from this system may be disclosed to officials of labor organizations recognized under 5 U.S.C. Chapter 71 upon receipt of a formal request and in accord with the conditions of 5 U.S.C. 7114 when relevant and necessary to their duties of exclusive representation concerning personnel policies, practices, and matters affecting working conditions.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Records are maintained in an electronic database.

RETRIEVABILITY:

Records can be retrieved by organizational unit, employee name, and employee computer system log-in name.

SAFEGUARDS:

Information in the database is secured through controlled access and passwords restricted to administrative office personnel. Data resident on network servers are backed-up daily to magnetic media. Back-up tapes are stored on-site and at an off-site storage location.

RETENTION AND DISPOSAL:

Records kept by the FCC are maintained and disposed of in accordance with General Records Schedule 12 issued by the National Archives and Records Administration (NARA). Records are retained until an employee or contractor leaves the FCC and then shredded. Electronic records are destroyed physically (electronic storage media) or by electronic erasure. Individuals may request a copy of the disposition instructions from the FCC Privacy Act Officer or access the Schedule directly at http://www.archives.gov/records-mgmt/ardor/grs12.html.

SYSTEM MANAGER(S) AND ADDRESS:

Information Technology Center, Associate Managing Director—Information Technology (AMD-IT), Office of the Managing Director (OMD), Federal Communications Commission (FCC), 445 12th Street, SW., Room 1-C266, Washington, DC 20554.

NOTIFICATION PROCEDURE:

Address inquiries to the system manager.

RECORD ACCESS PROCEDURES:

Address inquiries to the system manager.

CONTESTING RECORD PROCEDURES:

Address inquiries to the system manager.

RECORD SOURCE CATEGORIES:

Access by employees and contractors to the FCC's Inter-office and Internet E-mail systems.

EXEMPTIONS CLAIMED FOR THE SYSTEM:

None.

FCC/OMD-21

SYSTEM NAME:

Garnishment and Levy of Wages.

SECURITY CLASSIFICATION:

None.

SYSTEM LOCATION:

Human Resources Management (HRM), Office of the Managing Director (OMD), Federal Communications Commission (FCC), 445 12th Street, SW., Room 1-B104, Washington, DC 20554.

CATEGORIES OF INDIVIDUALS COVERED BY THE SYSTEM:

Information on any Federal Communications Commission (FCC) employee who is the subject of a garnishment or levy order issued by a court of competent jurisdiction or by another government entity authorized to issue such order.

CATEGORIES OF RECORDS IN THE SYSTEM:

Garnishment of levy orders served upon the agency for implementation, correspondence, and memoranda.

AUTHORITY FOR MAINTENANCE OF THE SYSTEM:

5 U.S.C. 5520a, 10 U.S.C. 1408, and 42 U.S.C. 659.

PURPOSE(S):

Records are used to direct the agency's implementation of garnishment and levy orders.

ROUTINE USES OF RECORDS MAINTAINED IN THE SYSTEM, INCLUDING CATEGORIES OF USERS AND THE PURPOSES OF SUCH USES:

Information about individuals in this system of records may routinely be disclosed under the following conditions:

1. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

2. Law enforcement and Investigation—where there is an indication of a violation or potential violation of a statute, regulation, rule, or order, records from this system may be shared with appropriate Federal, State, or local authorities either for purposes of obtaining additional information relevant to a FCC decision or for referring the record for investigation, enforcement, or prosecution by another agency;

3. Congressional Inquiries—when requested by a Congressional office in response to an inquiry by an individual made to the Congressional office for their own records;

4. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act;

5. Employment, Clearances, Licensing, Contract, Grant, or other Benefits Decisions by the agency—disclosure may be made to a Federal, State, local or foreign agency maintaining civil, criminal, or other relevant enforcement records, or other pertinent records, or to another public authority or professional organization, if necessary to obtain information relevant to an investigation concerning the retention of an employee or other personnel action (other than hiring), the retention of a security clearance, the letting of a contract, or the issuance or retention of a grant or other benefit;

6. Employment, Clearances, Licensing, Contract, Grant, or other Benefits Decisions by other than the agency—disclosure may be made to a Federal, State, local, foreign, tribal or other public authority of the fact that this system of records contains information relevant to the retention of an employee, the retention of a security clearance, the letting of a contract, or the issuance or retention of a license, grant, or other benefit. The other agency or licensing organization may then make a request supported by the written consent of the individual for the entire records if it so chooses. No disclosure will be made unless the information has been determined to be sufficiently reliable to support a referral to another office within the agency or to another Federal agency for criminal, civil, administrative, personnel, or regulatory action; and

7. Labor Relations—A record from this system may be disclosed to officials of labor organizations recognized under 5 U.S.C. Chapter 71 upon receipt of a formal request and in accord with the conditions of 5 U.S.C. 7114 when relevant and necessary to their duties of exclusive representation concerning personnel policies, practices, and matters affecting working conditions.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Paper records are stored in file folders.

RETRIEVABILITY:

Records are retrieved by the name of the individual subject to garnishment or levy order.

SAFEGUARDS:

Records are kept in file cabinets that are secured at the end of each business day.

RETENTION AND DISPOSAL:

Records kept by the FCC are retained until the expiration of the garnishment or levy order or until the employee leaves the FCC, whichever comes first. They are then shredded. Individuals may request a copy of the disposition instructions from the FCC Privacy Act Officer.

SYSTEM MANAGER(S) AND ADDRESS:

Associate Managing Director—Human Resources Management (AMD-HRM), Office of the Managing Director (OMD), Federal Communications Commission (FCC), 445 12th Street, SW., Room 1-B104, Washington, DC 20554.

NOTIFICATION PROCEDURE:

Address inquiries to the system manager.

RECORD ACCESS PROCEDURE:

Address inquiries to the system manager.

CONTESTING RECORD PROCEDURES:

Address inquiries to the system manager.

RECORD SOURCE CATEGORIES:

Bankruptcy courts, state domestic relations courts, state public health and welfare departments or agencies, Internal Revenue Service, and intra-agency memoranda.

EXEMPTIONS CLAIMED FOR THE SYSTEM:

None.

FCC/OMD-22

SYSTEM NAME:

Equipment Loan Records.

SECURITY CLASSIFICATION:

None.

SYSTEM LOCATION:

Information Technology Center, Associate Managing Director—Information Technology (AMD-IT), Office of the Managing Director (OMD), Federal Communications Commission (FCC), 445 12th Street, SW., Room 1-C361, Washington, DC 20554.

CATEGORIES OF INDIVIDUALS COVERED BY THE SYSTEM:

Information concerning any individual loaned electronic equipment, e.g., laptops, pagers, cellular telephones, and RSA Secure Tokens by the Federal Communications Commission (FCC) for use in carrying out FCC business.

CATEGORIES OF RECORDS IN THE SYSTEM:

Information includes the following:

1. Individual's name, FCC I.D. badge number, and organizational unit; and

2. Loaned equipment's barcode number, serial number, model number, and modem number.

AUTHORITY FOR MAINTENANCE OF THE SYSTEM:

44 U.S.C. 3101 and 47 U.S.C. 154(I).

PURPOSE(S):

These records allow the FCC to meet its statutory and regulatory duties to ensure that government property is used only for allowed purposes; to ensure that government-purchased property is properly inventoried and accounted for; and to ensure that the FCC operates efficiently and effectively.

ROUTINE USES OF RECORDS MAINTAINED IN THE SYSTEM, INCLUDING CATEGORIES OF USERS AND THE PURPOSES OF SUCH USES:

Information about individuals in this system of records may routinely be disclosed under the following conditions:

1. Financial obligations as required by the National Finance Center et al.—when the National Finance Center (the FCC's designated payroll office), the Department of the Treasury Debt Management Services, and/or a current employer to effect a salary, IRS tax refund, or administrative offset to satisfy an indebtedness incurred for unofficial telephone and cellular calls; and to Federal agencies to identify and locate former employees for the purposes of collecting such indebtedness, including through administrative, salary, or tax refund offsets. Identifying and locating former employees, and the subsequent referral to such agencies for offset purposes, may be accomplished through authorized computer matching programs. Disclosures will be made only when all procedural steps established by the Debt Collection Act of 1982 and the Debt Collection Improvement Act of 1996 or the Computer Matching and Privacy Protection Act of 1988 as appropriate, have been taken;

2. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

3. Law enforcement and Investigation—where there is an indication of a violation or potential violation of a statute, regulation, rule, or order, records from this system may be shared with appropriate Federal, State, or local authorities either for purposes of obtaining additional information relevant to a FCC decision or for referring the record for investigation, enforcement, or prosecution by another agency;

4. Congressional Inquiries—when requested by a Congressional office in response to an inquiry by an individual made to the Congressional office for their own records;

5. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act;

6. Employment, Clearances, Licensing, Contract, Grant, or other Benefits Decisions by the agency—disclosure may be made to a Federal, State, local or foreign agency maintaining civil, criminal, or other relevant enforcement records, or other pertinent records, or to another public authority or professional organization, if necessary to obtain information relevant to an investigation concerning the retention of an employee or other personnel action (other than hiring), the retention of a security clearance, the letting of a contract, or the issuance or retention of a grant or other benefit;

7. Employment, Clearances, Licensing, Contract, Grant, or other Benefits Decisions by other than the agency—disclosure may be made to a Federal, State, local, foreign, tribal, or other public authority of the fact that this system of records contains information relevant to the retention of an employee, the retention of a security clearance, the letting of a contract, or the issuance or retention of a license, grant, or other benefit. The other agency or licensing organization may then make a request supported by the written consent of the individual for the entire records if it so chooses. No disclosure will be made unless the information has been determined to be sufficiently reliable to support a referral to another office within the agency or to another Federal agency for criminal, civil, administrative, personnel, or regulatory action; and

8. Labor Relations—A record from this system may be disclosed to officials of labor organizations recognized under 5 U.S.C. Chapter 71 upon receipt of a formal request and in accord with the conditions of 5 U.S.C. 7114 when relevant and necessary to their duties of exclusive representation concerning personnel policies, practices, and matters affecting working conditions.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Records are maintained in paper files and in electronic databases. The databases are password protected and updated daily.

RETRIEVABILITY:

Equipment loan records are retrieved by the employee name, equipment barcode number, serial number, and model or modem numbers.

SAFEGUARDS:

Paper and CD-ROM records are maintained in file cabinets that are locked at the end of the business day. Information in the databases is secured through controlled access and passwords restricted to administrative office personnel. Data resident on network servers are backed-up daily to magnetic media. Back-up tapes are stored on-site and at an off-site storage location.

RETENTION AND DISPOSAL:

Records kept by the FCC are maintained and disposed of in accordance with General Records Schedule 12 issued by the National Archives and Records Administration (NARA). Records are retained until an employee or contractor leaves the FCC and then shredded. Electronic records are destroyed physically (electronic storage media) or by electronic erasure. Individuals may request a copy of the disposition instructions from the FCC Privacy Act Officer or access the Schedule directly at http://www.archives.gov/records-mgmt/ardor/grs12.html.

SYSTEM MANAGER(S) AND ADDRESS:

Information Technology Center, Associate Managing Director—Information Technology (AMD-IT), Federal Communications Commission (FCC), 445 12th Street, SW., Room 1-C361, Washington, DC 20554.

NOTIFICATION PROCEDURE:

Address inquiries to the system manager.

RECORD ACCESS PROCEDURES:

Address inquiries to the system manager.

CONTESTING RECORD PROCEDURES:

Address inquiries to the system manager.

RECORD SOURCE CATEGORIES:

Individual requests to check out loaned equipment; and inventory databases tracking current status of loaned equipment.

EXEMPTIONS CLAIMED FOR THE SYSTEM:

None.

FCC/OWD-1

SYSTEM NAME:

Reasonable Accommodation Requests under the Rehabilitation Act of 1973.

SECURITY CLASSIFICATION:

None.

SYSTEM LOCATION:

Office of Workplace Diversity (OWD), Federal Communications Commission (FCC), 445 12th Street, SW., Room 5-C750, Washington, DC 20554.

CATEGORIES OF INDIVIDUALS COVERED BY THE SYSTEM:

Federal Communications Commission (FCC) employees or contractors with disabilities.

CATEGORIES OF RECORDS IN THE SYSTEM:

Electronic databases with all records containing the last and first name, filed alphabetically by last name, and a corresponding identification number, which includes:

1. FCC employee/temporary hire database contains: first and last name, telephone number, organizational unit, room number, date of issuance, and property pass privileges, if applicable.

2. Contractor database contains: first and last name, contractor company name, telephone number, FCC point of contact, telephone number, and date of issuance.

AUTHORITY FOR MAINTENANCE OF THE SYSTEM:

Executive Order (EO) 13164, Establishing Procedures to Facilitate the Provision of Reasonable Accommodation; EEOC, Enforcement Guidance on Reasonable Accommodation and Undue Hardship Under the Americans with Disabilities Act, 29 CFR Part 1615; Rehabilitation Act of 1973, 29 U.S.C. 12101 et seq.; 29 CFR 1630.

PURPOSE(S):

The system provides a method by which the FCC can identify Commission employees who have requested “reasonable accommodations” in their office, work stations, or to use other FCC facilities. Information on the disposition of each request is also maintained in this system.

ROUTINE USES OF RECORDS MAINTAINED IN THE SYSTEM, INCLUDING CATEGORIES OF USERS AND THE PURPOSES OF SUCH USES:

Information about individuals in this system of records may routinely be disclosed under the following conditions:

1. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

2. Law enforcement and Investigation—where there is an indication of a violation or potential violation of a statute, regulation, rule, or order, records from this system may be shared with appropriate Federal, State, or local authorities either for purposes of obtaining additional information relevant to a FCC decision or for referring the record for investigation, enforcement, or prosecution by another agency;

3. Congressional Inquiries—when requested by a Congressional office in response to an inquiry by an individual made to the Congressional office for their own records;

4. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act; and

5. Labor Relations—A record from this system may be disclosed to officials of labor organizations recognized under 5 U.S.C. Chapter 71 upon receipt of a formal request and in accord with the conditions of 5 U.S.C. 7114 when relevant and necessary to their duties of exclusive representation concerning personnel policies, practices, and matters affecting working conditions.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Records are maintained in a password protected computer database.

RETRIEVABILITY:

Records are retrieved by the name of the individual or accommodation identity number.

SAFEGUARDS:

The computer terminals are stored within a secured area. The Security Office staff performs a backup operation on these files on a weekly and monthly basis on ¼″ data cartridges, which are stored/safeguarded in the Security Office.

RETENTION AND DISPOSAL:

Records kept by the FCC are retained until an employee or contractor leaves the FCC and then shredded. Electronic records are destroyed physically (electronic storage media) or by electronic erasure.

SYSTEM MANAGER(S) AND ADDRESS:

Director of Workplace Diversity (OWD), 445 12th Street, SW., Room 5-C750, Washington, DC 20554; or Security Operations Center, Office of Managing Director (OMD), Federal Communications Commission (FCC), 445 12th Street, SW., Room 1-B458, Washington, DC 20554.

NOTIFICATION PROCEDURE:

Address inquiries to the system manager.

RECORD ACCESS PROCEDURES:

Address inquiries to the system manager.

CONTESTING RECORD PROCEDURES:

Address inquiries to the system manager.

RECORD SOURCE CATEGORIES:

Individuals requesting accommodation.

EXEMPTIONS CLAIMED FOR THE SYSTEM:

None.

FCC/WTB-1

SYSTEM NAME:

Wireless Services Licensing Records.

SYSTEM LOCATION:

Wireless Telecommunications Bureau (WTB), Room 3-C122, Federal Communications Commission (FCC), 445 12th Street, SW., Washington, DC 20554.

CATEGORIES OF INDIVIDUALS COVERED BY THE SYSTEM:

1. Licensees and applicants (including persons or entities with attributable interests therein as described below);

2. Tower owners; and

3. Contact persons relating to radio systems licensed or processed by the Wireless Telecommunications Bureau under parts 13, 22, 24, 27, 74, 80, 87, 90, 95, 97, and 101 of the Commission's Rules (Wireless Services).

CATEGORIES OF RECORDS IN THE SYSTEM:

The information includes:

1. Applications, licenses, and pleadings relating to such applications—including Individual Taxpayer Identification Numbers;

2. Correspondence relating to authorizations, and

3. Requests for authorizations in the Wireless Services.

4. FCC Forms 175, 601, 602, 603, 603T, and 605 and any supporting exhibits submitted by the applicant(s), and related documentation associated with the FCC's processing of these forms.

AUTHORITY FOR MAINTENANCE OF THE SYSTEM:

31 U.S.C. 7701; and 47 U.S.C. 301, 303, 309, 312, 362, 364, 386, 507, and 510.

PURPOSE(S):

Records are kept to administer the Federal Communications Commission's (FCC) regulatory responsibilities including licensing, enforcement, rulemaking, and other actions necessary to perform spectrum management duties, as follows:

1. To provide public access to pending requests for authorizations and information regarding current licensees;

2. To determine the availability of spectrum for licensing;

3. To determine when compliance filings, renewal applications, and fees are due from licensees;

4. To resolve disputes between radio operators regarding who has certain rights to use particular frequency bands in particular geographic areas;

5. To resolve cross border disputes, on occasion, e.g., dispute(s) with entities operating in Canada and Mexico.

6. To allow licensees to transfer or assign their interests in particular licenses or portions of licenses as the rules permit (after agency approval);

7. To evaluate the completeness and sufficiency of requests for new or modified authorizations;

8. To provide reports to a variety of Federal officials on the current uses and utilization of the spectrum the FCC is charged with regulating; and

9. To provide public access to license data (except ITIN numbers), which promotes the economically efficient allocation of spectrum and the resolution of radio interference problems.

ROUTINE USES OF RECORDS MAINTAINED IN THE SYSTEM, INCLUDING CATEGORIES OF USERS AND THE PURPOSES OF SUCH USES:

Information about individuals in this system of records may routinely be disclosed under the following conditions:

1. Public access—the licensee records will be publicly available and routinely used in accordance with Subsection b. of the Privacy Act; ITIN Numbers and material which is afforded confidential treatment pursuant to a request made under 47 CFR 0.459 will not be available for public inspection;

2. Financial obligations under the Debt Collection Acts—a record from this system may be disclosed to other Federal agencies for the purpose of collecting and reporting on delinquent debts as authorized by the Debt Collection Act of 1982, the Debt Collection Improvement Act of 1996, or the Federal Claims Collection Standard. A record from this system may be disclosed to any Federal, state, or local agency to conduct an authorized computer matching program in compliance with the Privacy Act of 1974, as amended, to identify and locate individuals who are delinquent in their repayment of certain debts owed to the U.S. Government. A record from this system may be used to prepare information on items considered income for taxation purposes to be disclosed to Federal, state, and local governments;

3. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

4. Law Enforcement and Investigation—where there is an indication of a violation or potential violation of a statute, regulation, rule, or order, records from this system may be shared with appropriate Federal, State, or local authorities either for purposes of obtaining additional information relevant to a FCC decision or for referring the record for investigation, enforcement, or prosecution by another agency;

5. Congressional Inquiries—when requested by a Congressional office in response to an inquiry by an individual made to the Congressional office for their own records; and

6. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

Pursuant to 5 U.S.C. 552a (b) (12), the Department of Treasury may disclose to a consumer reporting agency information regarding a claim by the FCC that is determined to be valid and overdue as follows:

1. The name, address, SSN or ITIN, and other information necessary to establish the identity of the individual or organization responsible for the claim;

2. The amount, status, and history of the claim; and

3. The program under which the claim arose.

The Commission may disclose the information specified in this paragraph under 5 U.S.C. 552a (b)(12) and the procedures contained in subsection 31 U.S.C. 3711(e). A consumer reporting agency to which these disclosures may be made is defined at 31 U.S.C. 3701(a) (3).

POLICIES AND PRACTICES FOR STORING, RETRIEVING, ACCESSING, RETAINING, AND DISPOSING OF RECORDS IN THE SYSTEM:

STORAGE:

All records are stored and accessed electronically:

1. Records that are submitted on paper are scanned or keyed into the computer system as appropriate; and

2. Paper records are archived after being entered electronically.

Tape backups of records are periodically created. Records of prior licensees are archived.

RETRIEVABILITY:

Records may be retrieved by searching electronically using a variety of parameters including name, a licensee's unique identifier, call sign, file number, etc. However, paper records which contain ITIN's are not available for public inspection.

SAFEGUARDS:

Records are protected by passwords and other computer security measures including the issuance of unique identifiers after such applicant or licensee completes the initial registration of such protected data as ITIN's. Access to privacy protected data is available only to those persons whose jobs require such access. Data resident on network servers are backed-up on to magnetic media. Back-up tapes are stored on-site and at an off-site storage location.

RETENTION AND DISPOSAL:

Records are maintained for eleven years after an individual ceases to be a licensee. Electronic records are destroyed physically (electronic storage media) or by electronic erasure.

SYSTEMS MANAGER(S) AND ADDRESS:

Chief, Wireless Telecommunications Bureau (WTB), Federal Communications Commission (FCC), 445 12th Street, SW., Room 3-C122, Washington, DC 20554.

NOTIFICATION PROCEDURE:

Address inquiries to the system manager.

RECORD ACCESS PROCEDURES:

Address inquiries to the system manager.

CONTESTING RECORD PROCEDURES:

Address inquiries to the system manager.

RECORD SOURCE CATEGORIES:

Individual conducting business with the FCC.

EXEMPTIONS CLAIMED FOR THE SYSTEM:

None.

FCC/WTB-5

SYSTEM NAME:

Application Review List for Present or Former Licensees, Operators, or Unlicensed Persons Operating Radio Equipment Improperly.

SECURITY CLASSIFICATION:

None.

SYSTEM LOCATION:

Wireless Telecommunications Bureau (WTB), Federal Communications Commission (FCC), 445 12th Street, SW., Room 3-C122, Washington, DC 20554.

CATEGORIES OF INDIVIDUALS COVERED BY THE SYSTEM:

1. Individuals who are or have been licensed under parts 13, 22, 24, 27, 74, 80, 87, 90, 95, 97, and 101 of FCC Rules, and who have operated in violation of the Federal Communications Commission's (FCC) rules or the Communications Act of 1934, as amended;

2. Unlicensed persons who have operated radio transmitting equipment; and

3. Persons who have had a license revoked or have had an application dismissed or denied, and are prohibited from filing another application within one year.

CATEGORIES OF RECORDS IN THE SYSTEM:

Information in this system includes: name, address, date of birth (if known), authorization code of staff member who placed name in the file, and date the name was placed in the file.

AUTHORITY FOR MAINTENANCE OF THE SYSTEM:

47 U.S.C. 301, 303, 309(e), and 312.

PURPOSE(S):

The records are used by selected staff and field employees to determine whether the application of these individuals should be granted, dismissed, or set for hearing.

ROUTINE USES OF RECORDS MAINTAINED IN THE SYSTEM, INCLUDING CATEGORIES OF USERS AND THE PURPOSES OF SUCH USES:

Information about individuals in this system of records may routinely be disclosed under the following conditions:

1. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

2. Law Enforcement and Investigation—where there is an indication of a violation or potential violation of a statute, regulation, rule, or order, records from this system may be shared with appropriate Federal, State, or local authorities either for purposes of obtaining additional information relevant to a FCC decision or for referring the record for investigation, enforcement, or prosecution by another agency;

3. Congressional Inquiries—when requested by a Congressional office in response to an inquiry by an individual made to the Congressional office for their own records; and

4. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Records are stored on magnetic tape and computer printout(s).

RETRIEVABILITY:

Information is filed alphabetically by name of individual in a computer and is retrieved periodically through computer printout.

SAFEGUARDS:

Access to the computer database(s) is controlled by passwords; the computer(s) is located in a secured office; and the printouts are available only to selected staff personnel.

RETENTION AND DISPOSAL:

The printouts are destroyed by machine shredding when a new list is distributed. The computer tapes are retained for four back-up cycles, and on the fifth update, the oldest tape is destroyed by burning.

SYSTEM MANAGER(S) AND ADDRESS:

Chief, Wireless Telecommunications Bureau (WTB), Federal Communications Commission (FCC), 445 12th Street, SW., Room 3-C122, Washington, DC 20554.

NOTIFICATION PROCEDURE:

Under the authority granted to heads of agencies by 5 U.S.C. 552a(k), the FCC has determined (47 CFR 0.561) that this system of records is exempt from disclosing its notification procedure for this system of records.

RECORD ACCESS PROCEDURES:

Under the authority granted to heads of agencies by 5 U.S.C. 552a(k), the FCC has determined (47 CFR 0.561) that this system of records is exempt from disclosing its record access procedures for this system of records.

CONTESTING RECORD PROCEDURE:

Under the authority granted to heads of agencies by 5 U.S.C. 552a(k), the FCC has determined (47 CFR 0.561) that this system of records is exempt from disclosing its contesting record procedure for this system of records.

RECORD SOURCE CATEGORIES:

Under the authority granted to heads of agencies by 5 U.S.C. 552a(k), the FCC has determined (47 CFR 0.561) that this system of records is exempt from disclosing its record sources for this system of records.

EXEMPTION FROM CERTAIN PROVISIONS OF THE ACT:

This system of records is exempt from sections (c)(3), (d), (e)(4)(G), (H), and (I), and (f) of the Privacy Act of 1974, 5 U.S.C. 552a, and from 47 CFR 0.554-0.557 of the Commission's rules. These provisions concern the notification, record access, and contesting procedures described above, and also the publication of record sources. The system is exempt from these provisions because it contains the following types of information:

1. Investigative material compiled for law enforcement purposes as defined in Section (k)(2) of the Privacy Act;

2. Properly classified information, obtained from another Federal agency during the course of a personnel investigation, which pertains to national defense and foreign policy, as stated in Section (k)(1) of the Privacy Act; and

3. Investigative material compiled solely for the purpose of determining suitability, eligibility, or qualifications for Federal civilian employment, as described in Section (k)(5) of the Privacy Act, as amended.

FCC/WTB-6

SYSTEM NAME:

Archival Radio Operator Records.

SECURITY CLASSIFICATION:

None.

SYSTEM LOCATION:

Wireless Telecommunications Bureau (WTB), Federal Communications Commission (FCC), 1270 Fairfield Road, Gettysburg, Pennsylvania 17325.

CATEGORIES OF INDIVIDUALS COVERED BY THE SYSTEM:

Individuals who applied for and/or received a radiotelephone (wireless) operator license or permit prior to the implementation of the Federal Communications Commission's Universal Licensing System (ULS) in 2001.

CATEGORIES OF RECORDS IN THE SYSTEM:

Information includes: applications for radiotelephone (wireless) operator's license or permit prior to the implementation of the Federal Communications Commission's Universal Licensing System in 2001, and documents associated with these applications.

AUTHORITY FOR MAINTENANCE OF THE SYSTEM:

47 U.S.C. 303(l), 303(m), and 318.

PURPOSE(S):

These archival records are used to:

1. Administer the Commission's radio operator program including applications and determinations of license applicant qualifications. Limited file materials concerning licensed radio operators are maintained in the FCC's computer database. The information in the license database will be available for public inspection.

2. Refer possible violations of law to the Federal Communication Commission's (FCC) Enforcement Bureau, Office of General Counsel (OGC), and to the appropriate agency charged with the responsibility of investigating or prosecuting such violation(s).

ROUTINE USES OF RECORDS MAINTAINED IN THE SYSTEM, INCLUDING CATEGORIES OF USERS AND THE PURPOSES OF SUCH USES:

Information about individuals in this system of records may routinely be disclosed under the following conditions:

1. Public access—the licensee records will be publicly available and routinely used in accordance with Subsection b. of the Privacy Act; ITIN Numbers and material which is afforded confidential treatment pursuant to a request made under 47 CFR 0.459 will not be available for public inspection;

2. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

3. Law Enforcement and Investigation—where there is an indication of a violation or potential violation of a statute, regulation, rule, or order, records from this system may be shared with appropriate Federal, State, or local authorities either for purposes of obtaining additional information relevant to a FCC decision or for referring the record for investigation, enforcement, or prosecution by another agency;

4. Congressional Inquiries—when requested by a Congressional office in response to an inquiry by an individual made to the Congressional office for their own records;

5. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act;

6. Employment, Clearances, Licensing, Contract, Grant, or other Benefits Decisions by the agency—disclosure may be made to a Federal, State, local, or foreign agency maintaining civil, criminal, or other relevant enforcement records, or other pertinent records, or to another public authority or professional organization, if necessary to obtain information relevant to an investigation concerning the retention of an employee or other personnel action (other than hiring), the retention of a security clearance, the letting of a contract, or the issuance or retention of a grant, or other benefit; and

7. Employment, Clearances, Licensing, Contract, Grant, or other Benefits Decisions by other than the agency—disclosure may be made to a Federal, State, local, foreign, tribal, or other public authority of the fact that this system of records contains information relevant to the retention of an employee, the retention of a security clearance, the letting of a contract, or the issuance or retention of a license, grant, or other benefit. The other agency or licensing organization may then make a request supported by the written consent of the individual for the entire records if it so chooses. No disclosure will be made unless the information has been determined to be sufficiently reliable to support a referral to another office within the agency or to another Federal agency for criminal, civil, administrative, personnel or regulatory action.

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Information is stored on microfilm and in a computer database.

RETRIEVABILITY:

All records are retrievable by applicant name.

SAFEGUARDS:

The microfilm is stored in file cabinets that are secured at the close of the business day. Access to the database is secured by passwords. Data resident on network servers are backed-up onto magnetic media. Back-up tapes are stored on-site and at an off-site storage location.

RETENTION AND DISPOSAL:

Commercial applications are destroyed when eleven years old. Electronic records are destroyed physically (electronic storage media) or by electronic erasure. Both General and Restricted Permit applications are retained for 75 years.

SYSTEM MANAGER(S) AND ADDRESS:

Chief, Database Management Division, Wireless Telecommunications Bureau (WTB), Federal Communications Commission (FCC), 1270 Fairfield Road, Gettysburg, PA 17325.

NOTIFICATION PROCEDURE:

Under the authority granted to heads of agencies by 5 U.S.C. 552a(k), the FCC has determined (47 CFR 0.561) that this system of records is exempt from disclosing its notification procedure for this system of records.

RECORD ACCESS PROCEDURES:

Under the authority granted to heads of agencies by 5 U.S.C. 552a(k), the FCC has determined (47 CFR 0.561) that this system of records is exempt from disclosing its record access procedures for this system of records.

CONTESTING RECORD PROCEDURE:

Under the authority granted to heads of agencies by 5 U.S.C. 552a(k), the FCC has determined (47 CFR 0.561) that this system of records is exempt from disclosing its contesting record procedure for this system of records.

RECORD SOURCE CATEGORIES:

Under the authority granted to heads of agencies by 5 U.S.C. 552a(k), the FCC has determined (47 CFR 0.561) that this system of records is exempt from disclosing its record sources for this system of records.

EXEMPTION FROM CERTAIN PROVISIONS OF THE ACT:

This system of records is exempt from sections (c)(3), (d), (e)(4)(G), (H), and (I), and (f) of the Privacy Act of 1974, 5 U.S.C. 552a, and from 47 CFR 0.554-0.557 of the Commission's rules. These provisions concern the notification, record access, and contesting procedures described above, and also the publication of record sources. The system is exempt from these provisions because it contains the following types of information:

1. Investigative material compiled for law enforcement purposes as defined in Section (k)(2) of the Privacy Act;

2. Properly classified information, obtained from another Federal agency during the course of a personnel investigation, which pertains to national defense and foreign policy, as stated in Section (k)(1) of the Privacy Act; and

3. Investigative material compiled solely for the purpose of determining suitability, eligibility, or qualifications for Federal civilian employment, as described in Section (k)(5) of the Privacy Act, as amended.

FCC/WTB-7

SYSTEM NAME:

Remedy Action Request System (RARS).

SECURITY CLASSIFICATION:

None.

SYSTEM LOCATION:

Wireless Telecommunications Bureau (WTB), Federal Communications Commission (FCC), 445 12th Street, SW., Washington, DC 20554.

CATEGORIES OF INDIVIDUALS COVERED BY THE SYSTEM:

Individuals requesting help using the Universal Licensing System (ULS), Automated Auctions System (AAS), Antenna Registration System (ARS), Commission Registration System (CORES), and other subsystems included in, or as part of, these systems.

CATEGORIES OF RECORDS IN THE SYSTEM:

Information in the Remedy Action Response System (RARS) system include:

1. Requests for assistance by first name, last name, telephone number and extension, alternative telephone number and extension, fax number, e-mail address(es), operating system, Web browser, FCC Registration Number (FRN), and/or Individual Taxpayer Identification Number (ITIN), and personal security question and answer.

2. Records verifying identity information by first name, last name, contact telephone number, FRN and/or ITIN, and personal security question and answer.

AUTHORITY FOR MAINTENANCE OF THE SYSTEM:

Sec. 151, 154, 258, 301, 303, 309(e), 312, 362, 364, 386, 507 of the Communications Act of 1934, as amended, 47 U.S.C. 151, 154, 226, 258, 301, 303, 309(e), 312, 362, 364, 386, 507; and 29 U.S.C. 794 and 794d.

PURPOSE(S):

The Federal Communications Commission (FCC) staff use the records in this system of records to record and process requests from individuals or groups for technical help, i.e., technical questions, password requests, etc., using the FCC's Internet-based computer applications—licensing and auctions systems. This software is used by FCC management to ensure good customer service and problem resolution.

ROUTINE USES OF RECORDS MAINTAINED IN THE SYSTEM, INCLUDING CATEGORIES OF USERS AND THE PURPOSES OF SUCH USES:

Information about individuals in this system of records may routinely be disclosed under the following conditions:

1. Public access—records in this system will be made available upon request for public inspection after redaction of information that could identify the correspondent, i.e., name, telephone number, ITIN, and e-mail address. Limited public access to certain records may be available via the Internet. This information includes the status of request, request ID number, and the agent's number who took the call or electronic request for support. Public users who have contacted FCC personnel via telephone, e-mail, or electronic submission may access the system to retrieve a status on the ticket assigned to their request. They will be given this ticket/request number generated by the Remedy Action Request System (RARS) upon submission of a request. This number may be entered into the appropriate field on the FCC Web site to check the status of the ticket. Only the status of that ticket will be released to the public by entering the ticket number—no personal or confidential information is available to the public;

2. Adjudication and Litigation—where by careful review, the agency determines that the records are both relevant and necessary to litigation and the use of such records is deemed by the agency to be for a purpose that is compatible with the purpose for which the agency collected the records, these records may be used by a court or adjudicative body in a proceeding when: (a) The agency or any component thereof; or (b) any employee of the agency in his or her official capacity; or (c) any employee of the agency in his or her individual capacity where the agency has agreed to represent the employee; or (d) the United States Government is a party to litigation or has an interest in such litigation;

3. Law Enforcement and Investigation—where there is an indication of a violation or potential violation of a statute, regulation, rule, or order, records from this system may be shared with appropriate Federal, State, or local authorities either for purposes of obtaining additional information relevant to a FCC decision or for referring the record for investigation, enforcement, or prosecution by another agency;

4. Congressional Inquiries—when requested by a Congressional office in response to an inquiry by an individual made to the Congressional office for their own records; and

5. Government-wide Program Management and Oversight—when requested by the National Archives and Records Administration for the purpose of records management inspections conducted under authority of 44 U.S.C. 2904 and 2906; when the U.S. Department of Justice is contacted in order to obtain that department's advice regarding disclosure obligations under the Freedom of Information Act; or when the Office of Management and Budget is contacted in order to obtain that office's advice regarding obligations under the Privacy Act;

In each of these cases, the FCC will determine whether disclosure of the records is compatible with the purpose for which the records were collected.

DISCLOSURE TO CONSUMER REPORTING AGENCIES:

None.

POLICIES AND PRACTICES FOR STORING, RETRIEVING, ACCESSING, RETAINING, AND DISPOSING OF RECORDS IN THE SYSTEM:

STORAGE:

Paper copies of records in this system are maintained in file folders, and electronic files are located in computer databases on the FCC internal secured network.

RETRIEVABILITY:

Records may be retrieved by searching electronically using a variety of parameters including: name, entity name, licensee, applicant or unlicensed individual, call sign, file number, problem type, FRN, ITIN, e-mail address, or subject matter.

SAFEGUARDS:

Individual records may only be retrieved by authorized FCC personnel and contractors with a secured login ID and password maintained in the Remedy Action Request System (RARS) system. Computer systems are stored within secure areas. Records are stored in locked cabinets, which are secured in the office at the close of the business day. Data resident on network servers are backed-up onto magnetic media, which are kept locally and at an off-site storage location.

RETENTION AND DISPOSAL:

Records are maintained for eleven years after an individual ceases to be a user of the system. Electronic records are destroyed physically (electronic storage media) or by electronic erasure.

SYSTEMS MANAGER(S) AND ADDRESS:

Chief, Wireless Telecommunications Bureau (WTB), Federal Communications Commission (FCC), 445 12th Street, SW., Washington, DC 20554.

NOTIFICATION PROCEDURE:

Address inquiries to the system manager.

RECORD ACCESS PROCEDURES:

Address inquiries to the system manager.

CONTESTING RECORD PROCEDURES:

Address inquiries to the system manager.

RECORD SOURCE CATEGORIES:

Information provided by RARS users customers requesting assistance with the FCC's Internet based computer licensing, auctions, and related systems and subsystems.

EXEMPTIONS CLAIMED FOR THE SYSTEM:

None.

[FR Doc. 06-3082 Filed 4-4-06; 8:45 am]

BILLING CODE 6712-01-P